DEPARTMENT OF COMMERCE

Bureau of Industry and Security

15 CFR Parts 744 and 748

[Docket No. 241126-0303]

RIN 0694-AJ77

Additions and Modifications to the Entity List; Removals From the Validated End-User (VEU) Program

AGENCY: Bureau of Industry and Security, Commerce.

ACTION: Final rule.

SUMMARY: In this final rule, the Bureau of Industry and Security (BIS) amends the Export Administration Regulations (EAR) by adding 140 entities to the Entity List. These entries are listed on the Entity List under the destinations of China, People's Republic of (China), Japan, South Korea, and Singapore and have been determined by the U.S. Government to be acting contrary to the national security and foreign policy interests of the United States. This final rule also modifies 14 existing entries on the Entity List, consisting of revisions to 14 entries under China. This final rule publishes concurrently with BIS's interim final rule, “Foreign-Produced Direct Product Rule Additions, and Refinements to Controls for Advanced Computing and Semiconductor Manufacturing Items” (0694-AJ74), which makes additional changes to the EAR controls on advanced computing items and semiconductor manufacturing items. This final rule is part of this larger effort to ensure that appropriate EAR controls are in place on these items, including in connection with transactions destined to or otherwise involving the entities being added to the Entity List, as well as for existing entries on the Entity List that are being modified. All of these entities (those newly added and those being modified) are involved with the development and production of “advanced-node integrated circuits” (“advanced-node ICs”) and/or semiconductor manufacturing items, and/or have supported the Chinese government's Military-Civil Fusion (MCF) Development Strategy. Additionally, this final rule designates nine of these entities being added and seven of the entries being modified as entities for which entity-specific restrictions involving foreign-produced items apply. This final rule also amends the EAR by removing three entities from the Validated End-User (VEU) Program.

DATES:

Effective date: This rule is effective December 2, 2024.

Compliance date: The changes being made in this final rule that pertain to Entity List license requirements and other Entity List-related requirements linked to Footnote 5 designations have a compliance date of December 31, 2024.

FOR FURTHER INFORMATION CONTACT: For questions on the Entity List and VEU Program changes in this final rule, contact Chair, End-User Review Committee, Office of the Assistant Secretary for Export Administration, Bureau of Industry and Security, Department of Commerce, Phone: (202) 482-5991, Email: ERC@bis.doc.gov.

SUPPLEMENTARY INFORMATION:

I. Background

A. Entity List and End-User Review Committee (ERC)

The Entity List (supplement no. 4 to part 744 of the EAR (15 CFR parts 730 through 774)) identifies entities for which there is reasonable cause to believe, based on specific and articulable facts, that the entities have been involved, are involved, or pose a significant risk of being or becoming involved in activities contrary to the national security or foreign policy interests of the United States, pursuant to § 744.11(b). The EAR imposes additional license requirements on, and limit the availability of, most license exceptions for exports, reexports, and transfers (in-country) when an entity listed on the Entity List is a party to the transaction. The license review policy for each listed entity is identified in the “License Review Policy” column on the Entity List, and the impact on the availability of license exceptions is described in the relevant Federal Register document that added the entity to the Entity List. BIS places entities on the Entity List pursuant to parts 744 (Control Policy: End-User and End-Use Based) and 746 (Embargoes and Other Special Controls) of the EAR.

The ERC, composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

B. Addressing National Security and Foreign Policy Concerns Involving Advanced Computing and Semiconductor Manufacturing Items

This final rule is published concurrently with the interim final rule, “Foreign-Produced Direct Product Rule Additions, and Refinements to Controls for Advanced Computing and Semiconductor Manufacturing Items” (0694-AJ74) (FDP IFR), which makes additional changes to the EAR controls on advanced computing items or semiconductor manufacturing items, including new Foreign Direct Product (FDP) rules for certain commodities to impair the capability of certain destinations or entities of concern to produce “advanced-node ICs.” This final rule is part of the larger effort reflected in the FDP IFR to ensure appropriate EAR controls are in place on advanced computing items and semiconductor manufacturing items, including in connection with the entities being added to the Entity List, as well as for existing Entity List entries that are being modified. All of these entities, both those being added and those whose entries are being modified, are involved with the development and production of these “advanced-node ICs” and/or semiconductor manufacturing items, and/or have supported the Chinese government's MCF Development Strategy, activities that have been determined to be contrary to U.S. national security and foreign policy interests. The FDP IFR also adds one new FDP rule to § 734.9 (Foreign-Direct Product Rules) that will be set forth in paragraph (e)(3) (Entity List FDP rule: Footnote 5). BIS has designated nine of the 140 entities being added to the Entity List in this rule with a Footnote 5, which extends the Entity List license requirements to foreign direct products subject to the EAR on the basis of § 734.9(e)(3). Foreign-made items specified in certain ECCNs that are destined to an entity with a Footnote 5 designation may also be subject to the EAR on the basis of the de minimis provision described in § 734.4(a)(9). Entities designated with a Footnote 5 designation have been determined by the ERC to be involved in, or risk becoming involved in, the development or production of “advance-node ICs” that would otherwise require a license under § 744.23(a)(2). Section 744.23(a)(2) imposes a license requirement for any item subject to the EAR when you know the items will be used in the “development” or “production” of ICs destined to a “facility” located in Macau or a destination specified in Country Group D:5 where “production” of “advanced-node ICs” occurs.

II. Entity List Decisions

A. Additions to the Entity List

The ERC determined to add the following 106 entities to the Entity List: ACM Research (Shanghai); Beijing E-Town Semiconductor Technology Co., Ltd.; Beijing Guowei Integration Technology Co., Ltd.; Beijing Huada Jiutian Technology Co., Ltd.; Beijing Kaishitong Semiconductor Co., Ltd.; Beijing Naura Microelectronics Equipment Co., Ltd.; Beijing Naura Semiconductor Equipment Co., Ltd.; Beijing Sevenstar Flowmeter Co., Ltd.; Beijing Sevenstar Integrated Circuit Equipment Co., Ltd.; Beijing Shuoke Zhongkexin Electronic Equipment Co., Ltd.; Beijing Skyverse Technology Co., Ltd.; Beijing Zhongke Xin Electronic Equipment; Changsha Zhichun Application Technology Co., Ltd.; Chengdu Huada Jiutianke Technology Co., Ltd.; Chengdu Skyverse Technology Co., Ltd.; Guangzhou Huada Jiutian Technology Co., Ltd.; Guangzhou Skyverse Technology Co., Ltd.; Guowei Group (Shenzhen) Co., Ltd.; Hefei Kaishitong Semiconductor Co., Ltd.; Hefei Naura Microelectronics Equipment Co., Ltd.; Hefei Zhihui Semiconductor Application Technology Co., Ltd.; Hefei Zhiwei Microelectronics Co., Ltd.; Hefei Zhiwei Semiconductor Co., Ltd.; Hwa Tsing (Beijing) Technology Co., Ltd.; Hwa Tsing (Guangzhou) Semiconductor Co., Ltd.; Hwa Tsing (Shanghai) Semiconductor Co., Ltd.; Hwa Tsing Technology Co., Ltd.; Jiangsu Nata Optoelectronic Material Co., Ltd.; Jiangsu Qiwei Semiconductor Equipment Co., Ltd.; Jiangsu Zhichun System Integration Co., Ltd.; Kingstone Technology Hong Kong Limited; Nanda Optoelectronic Semiconductor Materials Co., Ltd.; Nanjing Huada Jiutianke Technology Co., Ltd.; Naura Technology Group Co., Ltd.; Ningbo Nanda Optoelectronic Materials Ltd.; Piotech; Piotech (Beijing) Co., Ltd.; Piotech (Shanghai) Co., Ltd.; Piotech Chuangyi (Shenyang) Semiconductor Equipment Co., Ltd.; Piotech Jianke (Haining) Semiconductor Equipment Co., Ltd.; Qingxin Technology Co., Ltd.; Quanjiao Nanda Optoelectronic Materials Ltd.; Raintree Scientific Instruments (Shanghai) Corporation; Ruili Microelectronics Equipment (Shanghai) Co., Ltd.; Shandong Feiyuan Gas Co., Ltd.; Shanghai AGM Gas Co., Ltd.; Shanghai Aipusi Precision Equipment Co., Ltd.; Shanghai Huada Jiutian Information Technology Co., Ltd.; Shanghai Jingce Semiconductor Technology Co., Ltd.; Shanghai Jingzhuo Information Technology Co., Ltd.; Shanghai Kaishitong Semiconductor Co., Ltd.; Shanghai Lingang Kaishitong Semiconductor Co., Ltd.; Shanghai Lizhi Technology Co., Ltd.; Shanghai Modern Advanced Ultra-Precision Manufacturing Center Co., Ltd.; Shanghai Nanpre Mechanics Co., Ltd.; Shanghai Naura Microelectronics Equipment Co., Ltd.; Shanghai Siwave Technology Co., Ltd.; Shanghai Skyverse Semiconductor Technology Co., Ltd.; Shanghai Xinsheng Jingrui Semiconductor Technology Co., Ltd.; Shanghai Xinsheng Jingtou Semiconductor Technology Co., Ltd.; Shanghai Xinsheng Jinko Semiconductor Technology Co., Ltd.; Shanghai Xinsheng Semiconductor Technology Co., Ltd.; Shanghai Yanquan Technology Co., Ltd.; Shanghai Yuwei Semiconductor Technology Co., Ltd; Shanghai Zhichun Alloy Manufacturing Co., Ltd.; Shanghai Zhichun Electronic Technology Co., Ltd.; Shanghai Zhichun Optoelectronic Equipment Co., Ltd.; Shanghai Zhichun Precision Gas Co., Ltd.; Shanghai Zhichun Precision Manufacturing Co., Ltd.; Shanghai Zhichun Purification System Technology Co., Ltd.; Shanghai Zhichun Semiconductor Equipment Co., Ltd; Shanghai Zhichun System Integration Co., Ltd.; Shanghai Zhijia Semiconductor Gas Co., Ltd.; Shanghai Zixi Optical Technology Co., Ltd.; Shengmei Semiconductor Equipment (Beijing) Co., Ltd.; Shengmei Semiconductor Equipment Wuxi Co., Ltd.; Shengwei Semiconductor Equipment (Shanghai) Co., Ltd.; Shenyang Xinyuan Micro Business Development Co., Ltd.; Shenyang Xinyuan Microelectronic Equipment Co., Ltd.; Shenzhen Guowei Hongbo Technology Co., Ltd.; Shenzhen Guowei Sensing Technology Co., Ltd.; Shenzhen Guoweichip Technology Co., Ltd.; Shenzhen Huada Jiutianke Technology Co., Ltd.; Shenzhen Naura Microelectronics Equipment Co., Ltd.; Shenzhen Qianhai Skyverse Semiconductor Technology Co., Ltd.; Skyverse; Skyverse Limited; Suzhou Nanda Optoelectronic Materials Co., Ltd.; Taiyuan Jinke Semiconductor Technology Co., Ltd.; Ulanqab Nanda Microelectronics Materials Co., Ltd.; Wuhan Naura Microelectronics Equipment Co., Ltd.; Wuhan Skyverse Semiconductor Technology Co., Ltd.; Wuhan Yiguang Technology Co., Ltd.; Wuxi Kaishitong Technology Co., Ltd.; Wuxi Naura Microelectronics Equipment Co., Ltd.; Xiamen Skyverse Technology Co., Ltd.; Xi'an Huada Jiutian Technology Co., Ltd.; Xi'an Naura Microelectronics Equipment Co., Ltd.; Yusheng Micro Semiconductor (Shanghai) Co., Ltd.; Yuwei Semiconductor Technology Co., Ltd.; Zhejiang Shenqihang Technology Co., Ltd.; Zhejiang Zhichun Precision Manufacturing Co., Ltd.; Zhiwei Semiconductor (Shanghai) Co., Ltd.; Zhiyi High Purity Electronic Materials (Shanghai) Ltd.; Zhuhai Skyverse Technology Co., Ltd.; and Zibo Keyuanxin Fluorine Trading Ltd. under the destination of China. The ERC determined to add Kingsemi Japan K.K. under the destination of Japan. The ERC determined to add Skyverse Pte. Ltd. under the destination of Singapore. The ERC determined to add ACM Research Korea Co., Ltd. and Empyrean Korea under the destination of South Korea. These entities aid in the development or production of ICs for military end use, activity that is contrary to the national security and foreign policy interests of the United States under § 744.11 of the EAR. A license will be required for all items subject to the EAR, and a license application review policy of a presumption of denial will apply.

The ERC also determined to add Shanghai Integrated Circuit Equipment & Materials Industry Innovation Center Co., Ltd. and Zhangjiang Laboratory, both under the destination of China, to the Entity List, with a Footnote 5 designation. These entities aid in the development or production of ICs for military end use and are involved in the development or production of “advanced-node ICs,” activity that is contrary to the national security and foreign policy interests of the United States under §§ 744.11 and 744.23 of the EAR. A license will be required for all items subject to the EAR, including those specified under § 734.9(e)(3), which require a license under § 744.11(a)(2)(v) (Footnote 5). The license application review policy is a presumption of denial.

The ERC determined to add Northern Integrated Circuit Technology Innovation Center (Beijing) Co., Ltd., and SMIC Advanced Technology R&D (Shanghai) Corporation, both under the destination of China, to the Entity List with a Footnote 5 designation. These entities have acquired or attempted to acquire U.S. tools or components, which risk supporting the production of “advanced-node ICs” at facilities of entities that are on the Entity List. This activity is contrary to the national security and foreign policy interests of the United States under §§ 744.11 and 744.23 of the EAR. A license will be required for all items subject to the EAR. Notably, this requirement applies to items specified under § 734.9(e)(3), which require a license under § 744.11(a)(2)(v). A license review policy of presumption of denial will apply.

The ERC determined to add Changguang Jizhi Optical Technology Co., Ltd.; Shanghai Feiai Technology Co., Ltd.; Shanghai Yuliangsheng Technology Co., Ltd.; Shenzhen Pengxinxu Technology Co., Ltd.; Shenzhen SiCarrier Technologies Co., Ltd.; Shenzhen Xinkailai Industrial Machinery Co., Ltd.; Shenzhen Zhangge Instrument Co., Ltd.; Si'En Qingdao Co. Ltd.; SwaySure Technology Co., Ltd.; and Zhuhai Cornerstone Technology Co., Ltd., all under the destination of China, to the Entity List because they are, or pose a significant risk of becoming, involved in activities contrary to the national security or foreign policy interests of the United States. Specifically, these entities pose a significant risk of contributing to the efforts of Huawei Technologies Co., Ltd., a party on the Entity List, to support China's government's goal of indigenous production of “advanced-node ICs” to support its military modernization. This significant risk is a criterion for adding entities to the Entity List under § 744.11(b) of the EAR. For Shenzhen Pengxinxu Technology Co., Ltd., Si'En Qingdao Co. Ltd., and SwaySure Technology Co., Ltd., a license will be required for all items subject to the EAR, including those specified under § 734.9(e)(3), which require a license under § 744.11(a)(2)(v) (Footnote 5). For Shenzhen Pengxinxu Technology Co., Ltd. and SwaySure Technology Co., Ltd., the license application review policy is a presumption of denial, except case-by-case for review for applications involving items not described in ECCN 3B001.a.4, .c, .d, f.1.b.2, .k to .p; 3B002.c, 3B993, or 3B994. For Si'En Qingdao Co. Ltd., the license application review policy is a presumption of denial. For Changguang Jizhi Optical Technology Co., Ltd., Shanghai Feiai Technology Co., Ltd., Shanghai Yuliangsheng Technology Co., Ltd., Shenzhen SiCarrier Technologies Co., Ltd., Shenzhen Xinkailai Industrial Machinery Co., Ltd., Shenzhen Zhangge Instrument Co., Ltd., and Zhuhai Cornerstone Technology Co., Ltd., a license will be required for all items subject to the EAR. The license application review policy will be a presumption of denial.

The ERC determined to add Wuhan Xinxin Semiconductor Manufacturing Company Limited, under the destination of China, to the Entity List with a Footnote 5 designation, for posing a significant risk of becoming involved in activities contrary to the national security and foreign policy interests of the United States under §§ 744.11 and 744.23 of the EAR. This determination is based on information that this company poses a significant risk of becoming involved in the development or production of “advanced-node ICs.” A license will be required for all items subject to the EAR, including those specified under § 734.9(e)(3), which require a license under § 744.11(a)(2)(v) (Footnote 5). The license review standards set forth in §§ 744.11 and 744.23(d) will apply. This entity will be eligible for license exception Restricted Fabrication Facility (RFF) (§ 740.26), a new license exception added to part 740 (License Exceptions) of the EAR pursuant to the FDP IFR published concurrently with this final rule. License Exception RFF authorizes the export, reexport, and in-country transfer of items described in ECCNs 3B991 (except 3B991.b.2.a through .b) and 3B992 that are not described in ECCN 3B001.a.4, .c, .d, f.1.b.2, .k to .p; 3B002.c, 3B993, or 3B994, subject to the requirements of § 740.26.

The ERC determined to add JAC Capital, Wingtech Technology Co., Ltd., and Wise Road Capital under the destination of China to the Entity List. These additions are being made because of these entities' involvement in aiding China's government's efforts to acquire entities with sensitive semiconductor manufacturing capability critical to the defense industrial bases of the United States and its allies with the objective of relocating these entities to China to help indigenize a semiconductor manufacturing ecosystem. This activity is contrary to the national security and foreign policy interests of the United States under § 744.11 of the EAR. A license will be required for all items subject to the EAR, and a license review policy of a presumption of denial will apply.

The ERC determined to add Beijing Guangke Xintu Technology Co., Ltd.; Beijing Jingyuan Microelectronics Technology Co., Ltd.; Dongfang Jingyuan Electron Co., Ltd.; Oriental Crystal Microelectronics Technology (Qingdao) Co., Ltd.; Oriental Crystal Microelectronics Technology (Shanghai) Co., Ltd.; Shenzhen Jingyuan Information Technology Co., Ltd.; and Xinlian Rongchuang Integrated Circuit Industry Development (Beijing) Co., Ltd. under the destination of China to the Entity List for activities contrary to the national security and foreign policy interests of the United States under § 744.11 of the EAR. Specifically, these entities are co-developing lithography technology with advanced-node fabrication facilities that produce chips for military end use. A license will be required for all items subject to the EAR, and a license review policy of a presumption of denial will apply.

The ERC determined to add the Chinese Academy of Sciences Institute of Microelectronics to the Entity List under the destination of China with a Footnote 5 designation for its support of China's “advanced-node ICs” and military modernization efforts, including the development or production of “advanced-node ICs” for military end use and collaboration with parties on the Entity List. This activity is contrary to the national security and foreign policy interests of the United States under §§ 744.11 and 744.23 of the EAR. A license will be required for all items subject to the EAR, including those specified under § 734.9(e)(3), which require a license under § 744.11(a)(2)(v) (Footnote 5). A license review policy of presumption of denial will apply.

The ERC determined to add AccoTest Technology Co., Ltd. (Hong Kong), Beijing Huafeng Electronic Equipment Co., Ltd., Beijing Huafeng Test & Control Technology Co., Ltd., and Huafeng Test & Control Technology (Tianjin) Co., Ltd., all under the destination of China, to the Entity List. These additions are being made because these entities present a risk of diversion of U.S.-origin items to parties on the Entity List, including entities that play a significant role in China's military modernization. This activity is contrary to the national security and foreign policy interests of the United States under § 744.11 of the EAR. A license will be required for all items subject to the EAR, and the license review policy will be a presumption of denial.

BIS estimates these additions to the Entity List will result in an additional 200 license applications submitted to BIS annually.

For the reasons described above, this final rule adds the following 140 entities to the Entity List and includes, where appropriate, aliases:

China

• AccoTest Technology Co., Ltd. (Hong Kong);

• ACM Research (Shanghai);

• Beijing E-Town Semiconductor Technology Co., Ltd.;

• Beijing Guangke Xintu Technology Co., Ltd.;

• Beijing Guowei Integration Technology Co., Ltd.;

• Beijing Huada Jiutian Technology Co., Ltd.;

• Beijing Huafeng Electronic Equipment Co., Ltd.;

• Beijing Huafeng Test & Control Technology Co., Ltd.;

• Beijing Jingyuan Microelectronics Technology Co., Ltd.;

• Beijing Kaishitong Semiconductor Co., Ltd.;

• Beijing Naura Microelectronics Equipment Co., Ltd.;

• Beijing Naura Semiconductor Equipment Co., Ltd.;

• Beijing Sevenstar Flowmeter Co., Ltd.;

• Beijing Sevenstar Integrated Circuit Equipment Co., Ltd.;

• Beijing Shuoke Zhongkexin Electronic Equipment Co., Ltd.;

• Beijing Skyverse Technology Co., Ltd.;

• Beijing Zhongke Xin Electronic Equipment;

• Changguang Jizhi Optical Technology Co., Ltd.;

• Changsha Zhichun Application Technology Co., Ltd.;

• Chengdu Huada Jiutianke Technology Co., Ltd.;

• Chengdu Skyverse Technology Co., Ltd.;

• Chinese Academy of Sciences Institute of Microelectronics;

• Dongfang Jingyuan Electron Co., Ltd.;

• Guangzhou Huada Jiutian Technology Co., Ltd.;

• Guangzhou Skyverse Technology Co., Ltd.;

• Guowei Group (Shenzhen) Co., Ltd.;

• Hefei Kaishitong Semiconductor Co., Ltd.;

• Hefei Naura Microelectronics Equipment Co., Ltd.;

• Hefei Zhihui Semiconductor Application Technology Co., Ltd.;

• Hefei Zhiwei Microelectronics Co., Ltd.;

• Hefei Zhiwei Semiconductor Co., Ltd.;

• Huafeng Test & Control Technology (Tianjin) Co., Ltd.;

• Hwa Tsing (Beijing) Technology Co., Ltd.;

• Hwa Tsing (Guangzhou) Semiconductor Co., Ltd.;

• Hwa Tsing (Shanghai) Semiconductor Co., Ltd.;

• Hwa Tsing Technology Co., Ltd.;

• JAC Capital;

• Jiangsu Nata Optoelectronic Material Co., Ltd.;

• Jiangsu Qiwei Semiconductor Equipment Co., Ltd.;

• Jiangsu Zhichun System Integration Co., Ltd.;

• Kingstone Technology Hong Kong Limited;

• Nanda Optoelectronic Semiconductor Materials Co., Ltd.;

• Nanjing Huada Jiutianke Technology Co., Ltd.;

• Naura Technology Group Co., Ltd.;

• Ningbo Nanda Optoelectronic Materials Ltd.;

• Northern Integrated Circuit Technology Innovation Center (Beijing) Co., Ltd.;

• Oriental Crystal Microelectronics Technology (Qingdao) Co., Ltd.;

• Oriental Crystal Microelectronics Technology (Shanghai) Co., Ltd.;

• Piotech;

• Piotech (Beijing) Co., Ltd.;

• Piotech (Shanghai) Co., Ltd.;

• Piotech Chuangyi (Shenyang) Semiconductor Equipment Co., Ltd.;

• Piotech Jianke (Haining) Semiconductor Equipment Co., Ltd.;

• Qingxin Technology Co., Ltd.;

• Quanjiao Nanda Optoelectronic Materials Ltd.;

• Raintree Scientific Instruments (Shanghai) Corporation;

• Ruili Microelectronics Equipment (Shanghai) Co., Ltd.;

• Shandong Feiyuan Gas Co., Ltd.;

• Shanghai AGM Gas Co., Ltd.;

• Shanghai Aipusi Precision Equipment Co., Ltd.;

• Shanghai Feiai Technology Co., Ltd.;

• Shanghai Huada Jiutian Information Technology Co., Ltd.;

• Shanghai Integrated Circuit Equipment & Materials Industry Innovation Center Co., Ltd.;

• Shanghai Jingce Semiconductor Technology Co., Ltd.;

• Shanghai Jingzhuo Information Technology Co., Ltd.;

• Shanghai Kaishitong Semiconductor Co., Ltd.;

• Shanghai Lingang Kaishitong Semiconductor Co., Ltd.;

• Shanghai Lizhi Technology Co., Ltd.;

• Shanghai Modern Advanced Ultra-Precision Manufacturing Center Co., Ltd.;

• Shanghai Nanpre Mechanics Co., Ltd.;

• Shanghai Naura Microelectronics Equipment Co., Ltd.;

• Shanghai Siwave Technology Co., Ltd.;

• Shanghai Skyverse Semiconductor Technology Co., Ltd.;

• Shanghai Xinsheng Jingrui Semiconductor Technology Co., Ltd.;

• Shanghai Xinsheng Jingtou Semiconductor Technology Co., Ltd.;

• Shanghai Xinsheng Jinko Semiconductor Technology Co., Ltd.;

• Shanghai Xinsheng Semiconductor Technology Co., Ltd.;

• Shanghai Yanquan Technology Co., Ltd.;

• Shanghai Yuliangsheng Technology Co., Ltd.;

• Shanghai Yuwei Semiconductor Technology Co., Ltd.;

• Shanghai Zhichun Alloy Manufacturing Co., Ltd.;

• Shanghai Zhichun Electronic Technology Co., Ltd.;

• Shanghai Zhichun Optoelectronic Equipment Co., Ltd.;

• Shanghai Zhichun Precision Gas Co., Ltd.;

• Shanghai Zhichun Precision Manufacturing Co., Ltd.;

• Shanghai Zhichun Purification System Technology Co., Ltd.;

• Shanghai Zhichun Semiconductor Equipment Co., Ltd;

• Shanghai Zhichun System Integration Co., Ltd.;

• Shanghai Zhijia Semiconductor Gas Co., Ltd.;

• Shanghai Zixi Optical Technology Co., Ltd.;

• Shengmei Semiconductor Equipment (Beijing) Co., Ltd.;

• Shengmei Semiconductor Equipment Wuxi Co., Ltd.;

• Shengwei Semiconductor Equipment (Shanghai) Co., Ltd.;

• Shenyang Xinyuan Micro Business Development Co., Ltd.;

• Shenyang Xinyuan Microelectronic Equipment Co., Ltd.;

• Shenzhen Guowei Hongbo Technology Co., Ltd.;

• Shenzhen Guowei Sensing Technology Co., Ltd.;

• Shenzhen Guoweichip Technology Co., Ltd.;

• Shenzhen Huada Jiutianke Technology Co., Ltd.;

• Shenzhen Jingyuan Information Technology Co., Ltd.;

• Shenzhen Naura Microelectronics Equipment Co., Ltd.;

• Shenzhen Pengxinxu Technology Co., Ltd.;

• Shenzhen Qianhai Skyverse Semiconductor Technology Co., Ltd.;

• Shenzhen SiCarrier Technologies Co., Ltd.;

• Shenzhen Xinkailai Industrial Machinery Co., Ltd.;

• Shenzhen Zhangge Instrument Co., Ltd.;

• Si'En Qingdao Co. Ltd.;

• Skyverse;

• Skyverse Limited;

• SMIC Advanced Technology R&D (Shanghai) Corporation;

• Suzhou Nanda Optoelectronic Materials Co., Ltd.;

• SwaySure Technology Co., Ltd.,

• Taiyuan Jinke Semiconductor Technology Co., Ltd.;

• Ulanqab Nanda Microelectronics Materials Co., Ltd.;

• Wingtech Technology Co., Ltd.;

• Wise Road Capital;

• Wuhan Naura Microelectronics Equipment Co., Ltd.;

• Wuhan Skyverse Semiconductor Technology Co., Ltd.;

• Wuhan Xinxin Semiconductor Manufacturing Company Limited;

• Wuhan Yiguang Technology Co., Ltd.;

• Wuxi Kaishitong Technology Co., Ltd.;

• Wuxi Naura Microelectronics Equipment Co., Ltd.;

• Xiamen Skyverse Technology Co., Ltd.;

• Xi'an Huada Jiutian Technology Co., Ltd.;

• Xi'an Naura Microelectronics Equipment Co., Ltd.;

• Xinlian Rongchuang Integrated Circuit Industry Development (Beijing) Co., Ltd.;

• Yusheng Micro Semiconductor (Shanghai) Co., Ltd.;

• Yuwei Semiconductor Technology Co., Ltd.;

• Zhangjiang Laboratory;

• Zhejiang Shenqihang Technology Co., Ltd.;

• Zhejiang Zhichun Precision Manufacturing Co., Ltd.;

• Zhiwei Semiconductor (Shanghai) Co., Ltd.;

• Zhiyi High Purity Electronic Materials (Shanghai) Ltd.;

• Zhuhai Cornerstone Technology Co., Ltd.;

• Zhuhai Skyverse Technology Co., Ltd.; and

• Zibo Keyuanxin Fluorine Trading Ltd.

Japan

• Kingsemi Japan K.K.

Singapore

• Skyverse Pte. Ltd.

South Korea

• ACM Research Korea Co., Ltd.; and

• Empyrean Korea.

B. Modifications to the Entity List

This final rule implements the decision of the ERC, or agency members of the ERC, to modify certain entries by adding Footnote 5 designations, updating addresses, and/or revising license application review policy. Footnote 5 designations are added to seven entities under the destination of China: Fujian Jinhua Integrated Circuit Company, Ltd.; PXW Semiconductor Manufactory Co., Ltd.; Semiconductor Manufacturing International (Beijing) Corporation; Semiconductor Manufacturing International Corporation (SMIC); Semiconductor Manufacturing South China Corporation; Shanghai Integrated Circuit Research and Development Center; and SMIC Northern Integrated Circuit Manufacturing (Beijing) Co., Ltd. The ERC has determined that these modifications for these entities are needed to further restrict their ability to obtain foreign-produced items that could support the production of “advanced-node ICs” as defined in § 772.1 and referenced in § 744.23. China's indigenous “advanced-node ICs” and are associated with diversion or military modernization risks. Inclusion on the Entity List under § 744.11 of the EAR is warranted, as these entities have been involved in activities that are contrary to the national security and foreign policy interests of the United States.

This rule also modifies the addresses for two entities under the destination of China: Fujian Jinhua Integrated Circuit Company, Ltd. and Semiconductor Manufacturing South China Corporation, to update existing addresses and/or include additional addresses associated with these entities.

In addition, this rule implements the decision of the ERC, or agency members of the ERC, to modify the license review policy for Semiconductor Manufacturing International (Beijing) Corporation; Semiconductor Manufacturing South China Corporation; and SMIC Northern Integrated Circuit Manufacturing (Beijing) Co., Ltd., to adopt a presumption of denial license review policy. Lastly, this rule implements the decision of the ERC to modify the license review policy for Semiconductor Manufacturing International Corporation (SMIC), also under the destination of China, to adopt a license review policy of a presumption of denial for all items subject to the EAR, including items described in ECCN 3B001.a.4, .c, .d, .f.1.b.2, .k to .p; 3B002.c, 3B993, or 3B994. Case-by-case will apply for items used for production of 200mm wafers destined to a 200mm production facility.

The ERC also determined to modify the license review policy for seven SMIC entries on the Entity List under the destination of China: Ningbo Semiconductor International Corporation (NSI); Semiconductor Manufacturing International (Shenzhen) Corporation; Semiconductor Manufacturing International (Tianjin) Corporation; SJ Semiconductor; SMIC Holdings Limited; SMIC Hong Kong International Company Limited; and SMIC Semiconductor Manufacturing (Shanghai) Co. The license review policy further restricts these parties' “development” or “production” of “advanced-node ICs” at semiconductor fabrication “facilities” in China. The license review standards set forth in §§ 744.11 and 744.23(d) will apply. The license review policy is presumption of denial, except case-by-case when § 744.23(d)(3) of the EAR applies.

III. Validated End-User (VEU) Program Decisions

A. Authorization Validated End-User (VEU)

Validated End-Users (VEUs) are designated entities located in eligible destinations to which eligible items subject to the EAR may be exported, reexported, or transferred (in-country) under a general EAR authorization instead of a license (see § 748.15 (Authorization Validated End-User (VEU)). The names of the VEUs, as well as the dates they were designated, and the associated eligible destinations (i.e., facilities) and items are identified in supplement no. 7 to part 748 of the EAR. Pursuant to § 748.15, VEU-eligible destinations may obtain eligible items without the need for the VEU's supplier to obtain an export, reexport, or transfer (in-country) license from BIS. VEU-eligible items vary among VEUs and may include commodities, software, and/or technology, apart from items controlled for missile technology or crime control reasons on the Commerce Control List (CCL) (supplement no. 1 to part 774 of the EAR).

VEUs are reviewed and approved by the U.S. Government in accordance with the provisions of § 748.15 and supplement nos. 8 and 9 to part 748 of the EAR. The ERC is responsible for administering the VEU program. BIS amended the EAR in a final rule published on June 19, 2007 (72 FR 33646) to create Authorization VEU.

B. Removals From the VEU Program Under China

Pursuant to § 748.15 and supplement no. 9 to part 748 of the EAR, the ERC determined to remove CSMC Technologies Corporation (CSMC); Shanghai Huahong Grace Semiconductor Manufacturing Corporation (HHGrace); and Advanced Micro-Fabrication Equipment, Inc., China, a.k.a., Advanced Micro-Electronics Corporation (AMEC). AMEC also requested to be removed from the VEU Program. This final rule accordingly removes these three entities' entries from supplement no. 7 to part 748 (Authorization Validated End-User (VEU): List of Validated End-Users, Respective Items Eligible for Export, Reexport and Transfer (In-Country), and Eligible Destinations).

Savings Clause

For the changes being made in this final rule, apart from the Entity List license requirements and other Entity List-related requirements linked to Footnote 5 designations, shipments of items removed from eligibility for a license exception or export, reexport, or transfer (in-country) without a license (NLR) as a result of this regulatory action that were en route aboard a carrier to a port of export, reexport, or transfer (in-country), on December 2, 2024, pursuant to actual orders for export, reexport, or transfer (in-country) to or within a foreign destination, may proceed to that destination under the previous eligibility for a License Exception or export, reexport, or transfer (in-country) without a license (NLR), provided the export, reexport, or transfer (in-country) is completed no later than on January 2, 2025.

For the changes being made in this final rule that pertain to Entity List license requirements and other Entity List-related requirements linked to Footnote 5 designations, shipments of items removed from eligibility for a license exception or export, reexport, or transfer (in-country) without a license (NLR) as a result of this regulatory action that were en route aboard a carrier to a port of export, reexport, or transfer (in-country), on January 2, 2025, pursuant to actual orders for export, reexport, or transfer (in-country) to or within a foreign destination, may proceed to that destination under the previous eligibility for a license exception or export, reexport, or transfer (in-country) without a license (NLR), provided the export, reexport, or transfer (in-country) is completed no later than on January 31, 2025.

Export Control Reform Act of 2018

On August 13, 2018, the President signed into law the John S. McCain National Defense Authorization Act for Fiscal Year 2019, which included the Export Control Reform Act of 2018 (ECRA) (codified, as amended, at 50 U.S.C. 4801-4852). ECRA provides the legal basis for BIS's principal authorities and serves as the authority under which BIS issues this rule. In particular, Section 1753 of ECRA (50 U.S.C. 4812) authorizes the regulation of exports, reexports, and transfers (in-country) of items subject to U.S. jurisdiction. Further, Section 1754(a)(1)-(16) of ECRA (50 U.S.C. 4813(a)(1)-(16)) authorizes, inter alia, establishing and maintaining a list of foreign persons and end uses that are determined to be a threat to the national security and foreign policy of the United States pursuant to the policy set forth in Section 1752(2)(A), and restricting exports, reexports, and in-country transfers of any controlled items to any foreign person or end-use so listed; apprising the public of changes in policy, regulations, and procedures; and any other action necessary to carry out ECRA that is not otherwise prohibited by law. Pursuant to Section 1762(a) of ECRA (50 U.S.C. 4821(a)), these changes can be imposed in a final rule without prior notice and comment.

Rulemaking Requirements

Executive Orders 12866, 13563, and 14094 direct agencies to assess all costs and benefits of available regulatory alternatives and, if regulation is necessary, to select regulatory approaches that maximize net benefits (including potential economic, environmental, public health and safety effects and distributive impacts and equity). Executive Order 13563 emphasizes the importance of quantifying both costs and benefits and of reducing costs, harmonizing rules, and promoting flexibility. This rule has been determined to be not significant for purposes of Executive Order 12866.

2. Notwithstanding any other provision of law, no person is required to respond to, nor shall any person be subject to a penalty for failure to comply with, a collection of information subject to the requirements of the Paperwork Reduction Act of 1995 (PRA) (44 U.S.C. 3501 et seq.), unless that collection of information displays a currently valid Office of Management and Budget (OMB) Control Number. This rule involves the following OMB-approved collections of information subject to the PRA:

• 0694-0088, “Simple Network Application Process and Multipurpose Application Form,” which carries a burden hour estimate of 29.4 minutes for a manual or electronic submission;

• 0694-0096 “Five Year Records Retention Period,” which carries a burden hour estimate of less than 1 minute; and

• 0607-0152 “Automated Export System (AES) Program,” which carries a burden hour estimate of 3 minutes per electronic submission.

BIS estimates that these Entity List additions and modifications and three removals of entities from the VEU Program under the EAR will result in an increase of 200 license applications submitted annually to BIS. However, the additional burden falls within the existing estimates currently associated with these control numbers. Additional information regarding these collections of information, including all background materials, can be found at: https://www.reginfo.gov/public/do/PRAMain by using the search function to enter either the title of the collection or the OMB Control Number.

3. This rule does not contain policies with federalism implications as that term is defined in Executive Order 13132.

4. Pursuant to section 1762 of the Export Control Reform Act of 2018, this action is exempt from the Administrative Procedure Act (APA) (5 U.S.C. 553) requirements for notice of proposed rulemaking, opportunity for public participation, and delay in effective date. While Section 1762 of ECRA provides sufficient authority for such an exemption, this action is also independently exempt from these APA requirements because it involves a military or foreign affairs function of the United States (5 U.S.C. 553(a)(1)).

5. Because a notice of proposed rulemaking and an opportunity for public comment are not required to be given for this rule by 5 U.S.C. 553, or by any other law, the analytical requirements of the Regulatory Flexibility Act (5 U.S.C. 601, et seq.) are not applicable. Accordingly, no regulatory flexibility analysis is required, and none has been prepared.

List of Subjects

15 CFR Part 744

Exports, Reporting and recordkeeping requirements, Terrorism.

15 CFR Part 748

Administrative practice and procedure, Exports, Reporting and recordkeeping requirements.

Accordingly, parts 744 and 748 of the Export Administration Regulations (15 CFR parts 730 through 774) are amended as follows:

PART 744—CONTROL POLICY: END-USER AND END-USE BASED

1. The authority citation for part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 18, 2024, 89 FR 77011 (September 20, 2024); Notice of November 7, 2024, 89 FR 88867 (November 8, 2024).

2. Amend supplement no. 4 to part 744 by:

a. Under CHINA, PEOPLE'S REPUBLIC OF, by:

i. Adding, in alphabetical order, entries for “AccoTest Technology Co., Ltd. (Hong Kong)”; “ACM Research (Shanghai)”; “Beijing E-Town Semiconductor Technology Co., Ltd.”; “Beijing Guangke Xintu Technology Co., Ltd.”; “Beijing Guowei Integration Technology Co., Ltd.”; “Beijing Huada Jiutian Technology Co., Ltd.”; “Beijing Huafeng Electronic Equipment Co., Ltd.”; “Beijing Huafeng Test & Control Technology Co., Ltd.”; “Beijing Jingyuan Microelectronics Technology Co., Ltd.”; “Beijing Kaishitong Semiconductor Co., Ltd.”; “Beijing Naura Microelectronics Equipment Co., Ltd.”; “Beijing Naura Semiconductor Equipment Co., Ltd.”; “Beijing Sevenstar Flowmeter Co., Ltd.”; “Beijing Sevenstar Integrated Circuit Equipment Co., Ltd.”; “Beijing Shuoke Zhongkexin Electronic Equipment Co., Ltd.”; “Beijing Skyverse Technology Co., Ltd.”; “Beijing Zhongke Xin Electronic Equipment”; “Changguang Jizhi Optical Technology Co., Ltd.”; “Changsha Zhichun Application Technology Co., Ltd.”; “Chengdu Huada Jiutianke Technology Co., Ltd.”; “Chengdu Skyverse Technology Co., Ltd.”; “Chinese Academy of Sciences Institute of Microelectronics”; and “Dongfang Jingyuan Electron Co., Ltd.”;

ii. Revising the entry for “Fujian Jinhua Integrated Circuit Company, Ltd.”;

iii. Adding, in alphabetical order, entries for “Guangzhou Huada Jiutian Technology Co., Ltd.”; “Guangzhou Skyverse Technology Co., Ltd.”; “Guowei Group (Shenzhen) Co., Ltd.”; “Hefei Kaishitong Semiconductor Co., Ltd.”; “Hefei Naura Microelectronics Equipment Co., Ltd.”; “Hefei Zhihui Semiconductor Application Technology Co., Ltd.”; “Hefei Zhiwei Microelectronics Co., Ltd.”; “Hefei Zhiwei Semiconductor Co., Ltd.”; “Huafeng Test & Control Technology (Tianjin) Co., Ltd.”; “Hwa Tsing (Beijing) Technology Co., Ltd.”; “Hwa Tsing (Guangzhou) Semiconductor Co., Ltd.”; “Hwa Tsing (Shanghai) Semiconductor Co., Ltd.”; “Hwa Tsing Technology Co., Ltd.”; “JAC Capital”; “Jiangsu Nata Optoelectronic Material Co., Ltd.”; “Jiangsu Qiwei Semiconductor Equipment Co., Ltd.”; “Jiangsu Zhichun System Integration Co., Ltd.”; “Kingstone Technology Hong Kong Limited”; “Nanda Optoelectronic Semiconductor Materials Co., Ltd.”; “Nanjing Huada Jiutianke Technology Co., Ltd.”; “Naura Technology Group Co., Ltd.”; and “Ningbo Nanda Optoelectronic Materials Ltd.”;

iv. Revising the entry for “Ningbo Semiconductor International Corporation (NSI)”;

v. Adding, in alphabetical order, entries for “Northern Integrated Circuit Technology Innovation Center (Beijing) Co., Ltd.”; “Oriental Crystal Microelectronics Technology (Qingdao) Co., Ltd.”; “Oriental Crystal Microelectronics Technology (Shanghai) Co., Ltd.”; “Piotech”; “Piotech (Beijing) Co., Ltd.”; “Piotech (Shanghai) Co., Ltd.”; “Piotech Chuangyi (Shenyang) Semiconductor Equipment Co., Ltd.; and “Piotech Jianke (Haining) Semiconductor Equipment Co., Ltd.”;

vi. Revising the entry for “PXW Semiconductor Manufactory Co., Ltd.”;

vii. Adding, in alphabetical order, entries for “Qingxin Technology Co., Ltd.”; “Quanjiao Nanda Optoelectronic Materials Ltd.”; “Raintree Scientific Instruments (Shanghai) Corporation”; “Ruili Microelectronics Equipment (Shanghai) Co., Ltd.”; and “S2C Limited”;

viii. Revising the entries for “Semiconductor Manufacturing International (Beijing) Corporation”; “Semiconductor Manufacturing International Corporation (SMIC)”; “Semiconductor Manufacturing International (Shenzhen) Corporation”; “Semiconductor Manufacturing International (Tianjin) Corporation”; and “Semiconductor Manufacturing South China Corporation”;

ix. Adding, in alphabetical order, entries for “Shandong Feiyuan Gas Co., Ltd.”; “Shanghai AGM Gas Co., Ltd.”; “Shanghai Aipusi Precision Equipment Co., Ltd.”; “Shanghai Feiai Technology Co., Ltd.”; “Shanghai Huada Jiutian Information Technology Co., Ltd.”; and “Shanghai Integrated Circuit Equipment & Materials Industry Innovation Center Co., Ltd.”;

x. Revising the entry for “Shanghai Integrated Circuit Research and Development Center”;

xi. Adding, in alphabetical order, entries for “Shanghai Jingce Semiconductor Technology Co., Ltd.”; “Shanghai Jingzhuo Information Technology Co., Ltd.”; “Shanghai Kaishitong Semiconductor Co., Ltd.”; “Shanghai Lingang Kaishitong Semiconductor Co., Ltd.”; “Shanghai Lizhi Technology Co., Ltd.”;

xii. Revising the entry for “Shanghai Micro Electronics Equipment (Group) Co., Ltd.”;

xiii. Adding, in alphabetical order, entries for “Shanghai Modern Advanced Ultra-Precision Manufacturing Center Co., Ltd.”; “Shanghai Nanpre Mechanics Co., Ltd.”; “Shanghai Naura Microelectronics Equipment Co., Ltd.”; “Shanghai Siwave Technology Co., Ltd.”; “Shanghai Skyverse Semiconductor Technology Co., Ltd.”; “Shanghai Xinsheng Jingrui Semiconductor Technology Co., Ltd.”; “Shanghai Xinsheng Jingtou Semiconductor Technology Co., Ltd.”; “Shanghai Xinsheng Jinko Semiconductor Technology Co., Ltd.”; “Shanghai Xinsheng Semiconductor Technology Co., Ltd.”; “Shanghai Yanquan Technology Co., Ltd.”; “Shanghai Yuliangsheng Technology Co.”, Ltd.”; “Shanghai Yuwei Semiconductor Technology Co., Ltd”; “Shanghai Zhichun Alloy Manufacturing Co., Ltd.”; “Shanghai Zhichun Electronic Technology Co., Ltd.”; “Shanghai Zhichun Optoelectronic Equipment Co., Ltd.”; “Shanghai Zhichun Precision Gas Co., Ltd.”; “Shanghai Zhichun Precision Manufacturing Co., Ltd.”; “Shanghai Zhichun Purification System Technology Co., Ltd.”; “Shanghai Zhichun Semiconductor Equipment Co., Ltd”; “Shanghai Zhichun System Integration Co., Ltd.”; “Shanghai Zhijia Semiconductor Gas Co., Ltd.”; “Shanghai Zixi Optical Technology Co., Ltd.”; “Shengmei Semiconductor Equipment (Beijing) Co., Ltd.”; “Shengmei Semiconductor Equipment Wuxi Co., Ltd.”; “Shengwei Semiconductor Equipment (Shanghai) Co., Ltd.”; “Shenyang Xinyuan Micro Business Development Co., Ltd.”, “Shenyang Xinyuan Microelectronic Equipment Co., Ltd.”; “Shenzhen Guowei Hongbo Technology Co., Ltd.”; “Shenzhen Guowei Sensing Technology Co., Ltd.”; “Shenzhen Guoweichip Technology Co., Ltd.”; “Shenzhen Huada Jiutianke Technology Co., Ltd.”; “Shenzhen Jingyuan Information Technology Co., Ltd.”; “Shenzhen Naura Microelectronics Equipment Co., Ltd.”; “Shenzhen Pengxinxu Technology Co., Ltd.”; “Shenzhen Qianhai Skyverse Semiconductor Technology Co., Ltd.”; “Shenzhen SiCarrier Technologies Co., Ltd.”; “Shenzhen Xinkailai Industrial Machinery Co., Ltd.”; “Shenzhen Zhangge Instrument Co., Ltd.”; and “Si'En Qingdao Co. Ltd.”;

xiv. Revising the entry for “SJ Semiconductor”;

xv. Adding, in alphabetical order, entries for “Skyverse”; “Skyverse Limited”; and “SMIC Advanced Technology R&D (Shanghai) Corporation”;

xvi. Revising the entries for “SMIC Holdings Limited”; “SMIC Hong Kong International Company Limited”; “SMIC Northern Integrated Circuit Manufacturing (Beijing) Co., Ltd.”; and “SMIC Semiconductor Manufacturing (Shanghai) Co., Ltd.”; and

xvii. Adding, in alphabetical order, entries for “Suzhou Nanda Optoelectronic Materials Co., Ltd.”; “SwaySure Technology Co., Ltd.”; “Taiyuan Jinke Semiconductor Technology Co., Ltd.”; “Ulanqab Nanda Microelectronics Materials Co., Ltd.”; “Wingtech Technology Co., Ltd.”; “Wise Road Capital”; “Wuhan Naura Microelectronics Equipment Co., Ltd.”, “Wuhan Skyverse Semiconductor Technology Co., Ltd.”; “Wuhan Xinxin Semiconductor Manufacturing Company Limited”; “Wuhan Yiguang Technology Co., Ltd.”; “Wuxi Kaishitong Technology Co., Ltd.”; “Wuxi Naura Microelectronics Equipment Co., Ltd.”; “Xiamen Skyverse Technology Co., Ltd.”; “Xi'an Huada Jiutian Technology Co., Ltd.”; and “Xi'an Naura Microelectronics Equipment Co., Ltd.”; Xinlian Rongchuang Integrated Circuit Industry Development (Beijing) Co., Ltd.”; “Yusheng Micro Semiconductor (Shanghai) Co., Ltd.”; “Yuwei Semiconductor Technology Co., Ltd.”; “Zhangjiang Laboratory”; “Zhejiang Shenqihang Technology Co., Ltd.”, “Zhejiang Zhichun Precision Manufacturing Co., Ltd.”; “Zhiwei Semiconductor (Shanghai) Co., Ltd.”; “Zhiyi High Purity Electronic Materials (Shanghai) Ltd.”; “Zhuhai Cornerstone Technology Co., Ltd.”; “Zhuhai Skyverse Technology Co., Ltd.”; and “Zibo Keyuanxin Fluorine Trading Ltd.”;

b. Under Japan, by adding, in alphabetical order, an entry for “Kingsemi Japan K.K.”;

c. Under Singapore, adding, in alphabetical order, an entry for “Skyverse Pte. Ltd.”;

d. Under South Korea, adding, in alphabetical order, entries for “ACM Research Korea Co., Ltd.”; and “Empyrean Korea”; and

e. Adding Footnote 5.

The additions and revisions read as follows:

Supplement No. 4 to Part 744—Entity List

* * * * *

Country | Entity | License requirement | License review policy | Federal Register citation
* * * * * * *
CHINA, PEOPLE'S REPUBLIC OF | * * * * * *
| AccoTest Technology Co., Ltd. (Hong Kong), Rm. 211 2/F MIRROR CTR, Tsim Sha Tsui East, Hong Kong | For all items subject to the EAR (See § 744.11 of the EAR) | Presumption of denial | 89 FR [INSERT FR PAGE NUMBER] December 5, 2024.
| * * * * * *
| ACM Research (Shanghai), a.k.a., the following four aliases: —Shengmei Shanghai; —ACM Shanghai; —Shengmei Semiconductor Equipment (Shanghai) Co., Ltd.; and —ACMSH. | For all items subject to the EAR (See § 744.11 of the EAR) | Presumption of denial | 89 FR [INSERT FR PAGE NUMBER] December 5, 2024.
| Building 4, No. 1690 Cailun Road, Zhangjiang High-Tech Park, Shanghai, China; and 604-1 IC Design Building, No. 33 Xinda Road, Wuxi, China; and About 170 meters northeast of the intersection of Luwu Highway and Xinyuan South Road, Pudong New District, Shanghai, China
| * * * * * *
| Beijing E-Town Semiconductor Technology Co., Ltd., a.k.a., the following four aliases: —BEST; —BEST Semiconductor; —Beijing Yitang Semiconductor Technology; and —Yitang Semiconductor. | For all items subject to the EAR (See § 744.11 of the EAR) | Presumption of denial | 89 FR [INSERT FR PAGE NUMBER ] December 5, 2024.
| No. 9 Ruihe West 2nd Road, Beijing, China and Building 8, No. 28 Jinghai 2nd Road, Beijing, China; and Rooms 610 and 611, 6th Floor, Main Building, Customs Clearance Service Center, No. 5 Tonghai 1st Road, Xiliu Street Office, Xi'an, China; and No. 601 and 605, Building A, Huaxin Headquarters Base, No. 426 Gaoxin Avenue, Wuhan, China; and Room 706, IC Design Building A 33-2, Xinda Road, Xinwu District, Wuxi, China; and Floor 4-5, Building D, Import and Export Commodity Exhibition and Trading Center, at the intersection of Dongfang Avenue and Dayu Road, Xinzhan District, Hefei, China
| * * * * * *
| Beijing Guangke Xintu Technology Co., Ltd., No. 22, Ronghua Middle Road, Room 3101, 31F, Building 1, Beijing Economic and Technological Development Zone, Beijing, China and 3101 Floor 31, Building 1, No. 22 Courtyard, Ronghua M. Road, Beijing Economic Technology Development Zone, Beijing 100000 China | For all items subject to the EAR (See § 744.11 of the EAR) | Presumption of denial | 89 FR [INSERT FR PAGE NUMBER] December 5, 2024.
| Beijing Guowei Integration Technology Co., Ltd., 10th Floor, Building 1, No. 24, Jiuxianqiao Middle Road, Chaoyang District, Beijing, China | For all items subject to the EAR (See § 744.11 of the EAR) | Presumption of denial | 89 FR [INSERT FR PAGE NUMBER] December 5, 2024.
| * * * * * *
| Beijing Huada Jiutian Technology Co., Ltd., a.k.a., the following five aliases: —Empyrean; —Huada Empyrean; —Empyrean Technology; —Huada Jiutian; and —BGI Jiutian. | For all items subject to the EAR (See § 744.11 of the EAR) | Presumption of denial | 89 FR [INSERT FR PAGE NUMBER] December 5, 2024.
| 2nd Floor, Building A, No. 2, Lizezhong 2nd Road, Chaoyang District, Beijing, China
| Beijing Huafeng Electronic Equipment Co., Ltd., 10/F, 2 Bldg., 1# Haiying Rd., Fengtai Dist., Beijing, 100070, China | For all items subject to the EAR (See § 744.11 of the EAR) | Presumption of denial | 89 FR [INSERT FR PAGE NUMBER] December 5, 2024.
| Beijing Huafeng Test & Control Technology Co., Ltd., a.k.a. the following three aliases: —AccoTEST; —AccoTEST BU. of Huafeng Test & Control Co., Ltd.; and —HFTC. | For all items subject to the EAR (See § 744.11 of the EAR) | Presumption of denial | 89 FR [INSERT FR PAGE NUMBER] December 5, 2024.
| 101, 102, 103, Floor 5, 1, Building 5, No. 9 Courtyard, Fenghao E. Road, Haidian District, Beijing 100094, China; and Building 5, IC Park, No. 9 Fenghao East Road, Haidian District, Beijing 100094, China; and 17th Floor, Building 2, Qimeng Cross-border Xiangfu Park, No. 116 Xianghong Road, Gongshu District, Hangzhou, Zhejiang Province, China; and 1102, Tianan Smart City A3, No. 228 Linghu Avenue, Xinwu District, Wuxi, Jiangsu Province, China; and Room 414, No. 1, 88 Shengrong Road, Pudong New Area, Shanghai, China; and 1603-1604, Mega Plaza, No. 1027 Changning Road, Changning District, Shanghai, China; and Room A1-309, Tower Building, Ascendas Innovation Park, No. 388 Xinping Street, Suzhou Industrial Park, Jiangsu Province, China; and Room 805, Lianyi Center, No. 83 Mingguang Road, Weiyang District, Xi'an, Shaanxi Province, China; and Shenzhen Software Park, Keji Middle 2nd Road, Nanshan District, Shenzhen, Guangdong Province, China
| * * * * * *
| Beijing Jingyuan Microelectronics Technology Co., Ltd., a.k.a., the following two aliases: —Zhongke Jingyuan Microelectronics Technology (Beijing) Co., Ltd.; and —Casue. | For all items subject to the EAR (See § 744.11 of the EAR) | Presumption of denial | 89 FR [INSERT FR PAGE NUMBER] December 5, 2024.
| No. 156, Jinghai 4th Road, Building 12, 5th Floor, Beijing Economic and Technological Development Zone, Beijing, China
| * * * * * *
| Beijing Kaishitong Semiconductor Co., Ltd., a.k.a., the following one alias: —Beijing Kingstone Semiconductor. | For all items subject to the EAR (See § 744.11 of the EAR) | Presumption of denial | 89 FR [INSERT FR PAGE NUMBER] December 5, 2024.
| Floor 1, Building 2, No. 15, Jingsheng South 4th Street, Beijing Economic and Technological Development Zone (Tongzhou), Beijing, China; and 3rd Floor, Block A2, Digital Manor, No. 1 Disheng West Road, Beijing Economic and Technological Development Zone, Beijing, China
| * * * * * *
| Beijing Naura Microelectronics Equipment Co., Ltd., a.k.a. the following five aliases: —Beijing Naura; —Northern Huachuang Microelectronics Equipment; —Beijing Naura Microele Eq Co.; —Beifang Huachuang Microelectronics Equipment; and —Beijing Naura Microelectronics. | For all items subject to the EAR (See § 744.11 of the EAR) | Presumption of denial | 89 FR [INSERT FR PAGE NUMBER] December 5, 2024.
| No. 8, Wenchang Avenue, Beijing Economic and Technological Development Zone, Beijing, China; and No. 1 Jiuxianqiao East Road, Chaoyang District, Beijing, China; and Room 101, Floor 1 to 4, Building 1, No. 20, Jinshi Road, Mafang Town, Pinggu District, Beijing, China
| Beijing Naura Semiconductor Equipment Co., Ltd., Room 101, Floor 1 to 4, Building 1, No. 20, Jinshi Road, Mafang Town, Pinggu District, Beijing, China | For all items subject to the EAR (See § 744.11 of the EAR) | Presumption of denial | 89 FR [INSERT FR PAGE NUMBER] December 5, 2024.
| * * * * * *
| Beijing Sevenstar Flowmeter Co., Ltd., a.k.a., the following one alias: —Beijing Qixing Flowmeter Co., Ltd. | For all items subject to the EAR (See § 744.11 of the EAR) | Presumption of denial | 89 FR [INSERT FR PAGE NUMBER] December 5, 2024.
| 4S01, 4th Floor, Building 1, No. 8 Wenchang Avenue, Beijing, China
| Beijing Sevenstar Integrated Circuit Equipment Co., Ltd., a.k.a., the following one alias: —Beijing Qixing Integrated Circuit Equipment Co., Ltd. | For all items subject to the EAR (See § 744.11 of the EAR) | Presumption of denial | 89 FR [INSERT FR PAGE NUMBER] December 5, 2024.
| No. 6 Zhuyuan 3rd Street, Shunyi District, Beijing, China
| Beijing Shuoke Zhongkexin Electronic Equipment Co., Ltd., a.k.a., the following one alias: —SemiCore ZKX. | For all items subject to the EAR (See § 744.11 of the EAR) | Presumption of denial | 89 FR [INSERT FR PAGE NUMBER] December 5, 2024.
| 1st Floor, Building 1, No. 6, Xingguang 2nd Street, Tongzhou District, Beijing, China and Room 2301, Luguyuyuan Entrepreneurship Building, No. 27 Wenxuan Road, Changsha, China
| * * * * * *
| Beijing Skyverse Technology Co., Ltd., a.k.a., the following one alias: —Beijing Nanolighting Technology Co., Ltd. | For all items subject to the EAR (See § 744.11 of the EAR) | Presumption of denial | 89 FR [INSERT FR PAGE NUMBER] December 5, 2024.
| Room 101-18, Floor 1, Building B1, No. 3 Disheng Middle Road, Beijing, China
| * * * * * *
| Beijing Zhongke Xin Electronic Equipment, a.k.a., the following three aliases: —ZKX; —Zhongkexin; and —CETC Beijing Zhongke Xin Electronic Equipment. | For all items subject to the EAR. (See § 744.11 of the EAR) | Presumption of denial | 89 FR [INSERT FR PAGE NUMBER] December 5, 2024.
| No. 6, Xingguang 2nd Street, Zhongguancun Science and Technology Park, Tongzhou District, Beijing, China and Office Building No. 44, North Gate, No. 20 Fuxing Road, Haidian District, Beijing, China
| * * * * * *
| Changguang Jizhi Optical Technology Co., Ltd., a.k.a., the following one alias: —Zetop. | For all items subject to the EAR (See § 744.11 of the EAR) | Presumption of denial | 89 FR [INSERT FR PAGE NUMBER] December 5, 2024.
| Building 1, No. 3033 Pudong Road, Changchun Economic and Technological Development Zone, Changchun, China
| * * * * * *
| Changsha Zhichun Application Technology Co., Ltd., No. 204, 2nd Floor, Building 1, Peak, Gushan Sports Park, Jinjiachong Road, Wangcheng District, Changsha, China | For all items subject to the EAR (See § 744.11 of the EAR) | Presumption of denial | 89 FR [INSERT FR PAGE NUMBER] December 5, 2024.
| * * * * * *
| Chengdu Huada Jiutianke Technology Co., Ltd., a.k.a., the following two aliases: —Chengdu Huada; and —Chengdu Empyrean. | For all items subject to the EAR (See § 744.11 of the EAR) | Presumption of denial | 89 FR [INSERT FR PAGE NUMBER] December 5, 2024.
| No. 518, Guoxin Avenue, Shuangliu District, Chengdu, China
| Chengdu Skyverse Technology Co., Ltd., a.k.a., the following one alias: —Chengdu Nanolighting Technology Co., Ltd., Room 1307, Floor 13, Unit 1, Building 1, No. 99 Tianfu 2nd Street, Chengdu, China | For all items subject to the EAR (See § 744.11 of the EAR) | Presumption of denial | 89 FR [INSERT FR PAGE NUMBER] December 5, 2024.
| * * * * * *
| Chinese Academy of Sciences Institute of Microelectronics, a.k.a., the following 6 aliases: —CAS IME; —IME CAS; —IMECAS; —CAS Institute of Microelectronics; —CAS Microelectronics Institute; and —Institute of Microelectronics of the Chinese Academy of Sciences. | For all items subject to the EAR (See §§ 734.4(a)(9), 734.9(e)(3), and 744.11 of the EAR) ⁵ | Presumption of denial | 89 FR [INSERT FR PAGE NUMBER] December 5, 2024.
| #3 Beitucheng West Road, Chaoyang District, Beijing, China; and No. 3, North Tucheng West Road, Chaoyang District, Beijing, China
| * * * * * *
| Dongfang Jingyuan Electron Co., Ltd., a.k.a., the following five aliases: —DJEL; —Dongfang Jingyuan Electron Limited; —Oriental Crystal Microelectronics Technology (Beijing Co., Ltd.); —Dongfang Jingyuan Micro-Electronic Technology (Beijing) Co., Ltd.; and —Oriental Crystal Source. | For all items subject to the EAR (See § 744.11 of the EAR) | Presumption of denial | 89 FR [INSERT FR PAGE NUMBER] December 5, 2024.
| No. 156 Jinghai 4th Road, Building 12, Beijing Economic and Technological Development Zone, Beijing, China and No. 156 Jinghai 4th Road, Building A4, Beijing Economic and Technological Development Zone, Beijing, China and Room 301F, Block C, Yingdali Technology Digital Park, Futian Free Trade Zone, Fubao Street, Futian District, Shenzhen, China and Building 12, Yard 156, Jinghai 4th Road, Economic and Technological Development Zone Beijing, 100001, China
| * * * * * *
| Fujian Jinhua Integrated Circuit Company, Ltd., a.k.a., the following one alias: —JHICC. | For all items subject to the EAR (See §§ 734.4(a)(9), 734.9(e)(3), and 744.11 of the EAR) ⁵ | Presumption of denial | 83 FR 54521, 10/30/18. 89 FR [INSERT FR PAGE NUMBER] December 5, 2024.
| Sanchuang Park, Century Avenue Jinjiang City, Fujian Province, China; and No. 88, Lianhua Avenue, Jinjiang Integrated Circuit Science Park, Quanzhou City, Fujian Province, China
| * * * * * *
| Guangzhou Huada Jiutian Technology Co., Ltd., a.k.a., the following two aliases: —Guangzhou Huada; and —Guangzhou Empyrean. | For all items subject to the EAR (See § 744.11 of the EAR) | Presumption of denial | 89 FR [INSERT FR PAGE NUMBER] December 5, 2024.
| Room 1006, Building A, No. 18 Keke Avenue, Huangpu District, Guangzhou, China
| * * * * * *
| Guangzhou Skyverse Technology Co., Ltd., a.k.a., the following one alias: —Guangzhou Nanolighting Technology Co., Ltd. | For all items subject to the EAR (See § 744.11 of the EAR) | Presumption of denial | 89 FR [INSERT FR PAGE NUMBER] December 5, 2024.
| Room 406-502, No. 1 Yichuang Street, Huangpu District, Guangzhou, China
| * * * * * *
| Guowei Group (Shenzhen) Co., Ltd., a.k.a., the following three aliases: —Guowei Group; —SMIT Group; and —SMIT Shenzhen. | For all items subject to the EAR (See § 744.11 of the EAR) | Presumption of denial | 89 FR [INSERT FR PAGE NUMBER] December 5, 2024.
| Room 22A, Guoshi Building, No. 1801 Shahe West Road, High-tech Zone Community, Nanshan District, Shenzhen, China
| * * * * * *
| Hefei Kaishitong Semiconductor Co., Ltd., a.k.a., the following one alias: —Hefei Kingstone Semiconductor. | For all items subject to the EAR (See § 744.11 of the EAR) | Presumption of denial | 89 FR [INSERT FR PAGE NUMBER] December 5, 2024.
| Room 102-3, R&D Building, Xinqiao Integrated Circuit Technology Park, No. 1 Shuofang Road, Airport Economic Demonstration Zone, Hefei, China
| * * * * * *
| Hefei Naura Microelectronics Equipment Co., Ltd., a.k.a., the following two aliases: —Hefei Naura; and —Hefei Naura Microelectronics. | For all items subject to the EAR (See § 744.11 of the EAR) | Presumption of denial | 89 FR [INSERT FR PAGE NUMBER] December 5, 2024.
| 2nd Floor, Building A, Electronic Factory, West of Tianzhushan Avenue and South of Shuofang Road, Airport Economic Demonstration Zone, Hefei, China
| Hefei Zhihui Semiconductor Application Technology Co., Ltd., Electronic Factory Building A, West of Tianzhushan Avenue and South of Shuofang Road, Hefei Airport Economic Demonstration Zone, Hefei Economic and Technological Development Zone, Hefei, China | For all items subject to the EAR (See § 744.11 of the EAR) | Presumption of denial | 89 FR [INSERT FR PAGE NUMBER] December 5, 2024.
| Hefei Zhiwei Microelectronics Co., Ltd., 2nd Floor, Building B, Hefei Zhiwei Semiconductor Co., Ltd., No. 3699 Dayu Road, Xinzhan District, Hefei, China | For all items subject to the EAR (See § 744.11 of the EAR) | Presumption of denial | 89 FR [INSERT FR PAGE NUMBER] December 5, 2024.
| Hefei Zhiwei Semiconductor Co., Ltd., No. 3699 Dayu Road, Xinzhan District, Hefei, China | For all items subject to the EAR (See § 744.11 of the EAR) | Presumption of denial | 89 FR [INSERT FR PAGE NUMBER] December 5, 2024.
| * * * * * *
| Huafeng Test & Control Technology (Tianjin) Co., Ltd., 1201 Chuanbo Road, Zhongxin Ecological City, Binhai, Tianjin, 300480, China; and 1201 Chuanbo Road, Sino-Singapore Eco-city, Binhai New Area, Tianjin, China | For all items subject to the EAR (See § 744.11 of the EAR) | Presumption of denial | 89 FR [INSERT FR PAGE NUMBER] December 5, 2024.
| * * * * * *
| Hwa Tsing (Beijing) Technology Co., Ltd., a.k.a., the following three aliases: —Huahai Qingke (Beijing) Technology Co., Ltd.; —Beijing Huahai Qingke; and —Beijing Hwa Tsing. | For all items subject to the EAR (See § 744.11 of the EAR) | Presumption of denial | 89 FR [INSERT FR PAGE NUMBER] December 5, 2024.
| Room 1107, Floor 11, Building 40, No. 1 Courtyard, Disheng North Street, Beijing, China and Room 505, Floor 5, Building 40, 1st Courtyard, Disheng North Road, Beijing, China
| Hwa Tsing (Guangzhou) Semiconductor Co., Ltd., a.k.a. the following three aliases: —Huahai Qingke (Guangzhou) Semiconductor Co., Ltd.; —Guangzhou Huahai Qingke; and —Guangzhou Hwa Tsing. | For all items subject to the EAR (See § 744.11 of the EAR) | Presumption of denial | 89 FR [INSERT FR PAGE NUMBER] December 5, 2024.
| Room 508, Building A, No. 136 Kaiyuan Avenue, Guangzhou, China
| Hwa Tsing (Shanghai) Semiconductor Co., Ltd., a.k.a., the following three aliases: —Huahai Qingke (Shanghai) Semiconductor Co., Ltd.; —Shanghai Huahai Qingke; and —Shanghai Hwa Tsing. | For all items subject to the EAR (See § 744.11 of the EAR) | Presumption of denial | 89 FR [INSERT FR PAGE NUMBER] December 5, 2024.
| 2nd Floor, 979 Yunhan Road, Lingang Innovation Zone, Shanghai, China
| Hwa Tsing Technology Co., Ltd., a.k.a., the following three aliases: —Huahai Qingke Technology Co., Ltd.; —Huahai Qingke; and —Hwa Tsing. | For all items subject to the EAR (See § 744.11 of the EAR) | Presumption of denial | 89 FR [INSERT FR PAGE NUMBER] December 5, 2024.
| No. 11, Juxing Road, Xianshuigu Town, Jinnan District, Tianjin, China; and Building 8, Haihe Creative Center, No. 9 Juxing Road, Jinnan District, Tianjin, China; and Electronics Factory R&D Building, west of Zhushan Avenue and south of Shuofang Road, Hefei, China; and Room 362, Floor 18, Building B4, Wuhan Future Science and Technology City Overseas Talents Area, 999 Gaoxin Avenue, Wuhan, China
| * * * * * *
| JAC Capital, a.k.a., the following one alias: —Beijing Jianguang Asset Management Co., Ltd. | For all items subject to the EAR (See § 744.11 of the EAR) | Presumption of denial | 89 FR [INSERT FR PAGE NUMBER] December 5, 2024.
| Floor 8, Beijing International Club Office Tower A, No. 21 Jian Wai Avenue, Chaoyang District, Beijing, China and Room 9-46, Building 6, Ronghui Garden, Linkong Economic Core Zone, Shunyi District, Beijing, China
| * * * * * *
| Jiangsu Nata Optoelectronic Material Co., Ltd., a.k.a., the following six aliases: —Nata Optoelectronic; —Nata; —Nata Chem; —Nanda Chem; —Nanda; and —Nanda Optoelectronic. | For all items subject to the EAR (See § 744.11 of the EAR) | Presumption of denial | 89 FR [INSERT FR PAGE NUMBER] December 5, 2024.
| No. 67, Pingsheng Road, Shengpu, Suzhou Industrial Park, Suzhou, China
| Jiangsu Qiwei Semiconductor Equipment Co., Ltd., No. 2015, Linyang Road, Qidong Economic Development Zone, Qidong, China | For all items subject to the EAR (See § 744.11 of the EAR) | Presumption of denial | 89 FR [INSERT FR PAGE NUMBER] December 5, 2024.
| * * * * * *
| Jiangsu Zhichun System Integration Co., Ltd., No. 500, Linyang Road, Qidong Economic Development Zone, Qidong, Jiangsu Province, China | For all items subject to the EAR (See § 744.11 of the EAR) | Presumption of denial | 89 FR [INSERT FR PAGE NUMBER] December 5, 2024.
| * * * * * *
| Kingstone Technology Hong Kong Limited, a.k.a., the following one alias: —Kingstone Hong Kong | For all items subject to the EAR (See § 744.11 of the EAR) | Presumption of denial | 89 FR [INSERT FR PAGE NUMBER] December 5, 2024.
| Unit 12, 11/F, Metro Centre II, Number 21 Lam Hing Street, Kowloon Bay, Hong Kong
| * * * * * *
| Nanda Optoelectronic Semiconductor Materials Co., Ltd., a.k.a., the following four aliases: —Nata Optoelectronic Semiconductor; —Nata Semiconductor; —Nanda Semiconductor; and —Nanda Optoelectronic Semiconductor. | For all items subject to the EAR (See § 744.11 of the EAR) | Presumption of denial | 89 FR [INSERT FR PAGE NUMBER] December 5, 2024.
| No. 117, Xincheng Avenue, Shitan Industrial Park, Shizi Town, Quanjiao County, Chuzhou, Anhui Province, China; and No. 686-688, Xincheng Avenue, Quanjiao County, Chuzhou, Anhui Province, China
| * * * * * *
| Nanjing Huada Jiutianke Technology Co., Ltd., a.k.a., the following two aliases: —Nanjing Huada; and —Nanjing Empyrean. | For all items subject to the EAR (See § 744.11 of the EAR) | Presumption of denial | 89 FR [INSERT FR PAGE NUMBER] December 5, 2024.
| Tower A, 8th floor, Chuangzhi Building, No. 17 Xinghuo Rd., Gaoxin District Nanjing, China
| * * * * * *
| Naura Technology Group Co., Ltd., a.k.a., the following four aliases: —Northern Huachuang; —Beifang Huachuang; —Naura; and —Naura Science & Technology Group. | For all items subject to the EAR (See § 744.11 of the EAR) | Presumption of denial | 89 FR [INSERT FR PAGE NUMBER] December 5, 2024.
| No. 1 Jiuxianqiao East Road, Chaoyang District, Beijing, China
| * * * * * *
| Ningbo Nanda Optoelectronic Materials Ltd., a.k.a., the following three aliases: —Ningbo Nata; —Ningbo NTU; and —Ningbo NTU Optoelectronics. | For all items subject to the EAR (See § 744.11 of the EAR) | Presumption of denial | 89 FR [INSERT FR PAGE NUMBER] December 5, 2024.
| No. 233, Yangzhou'ao Road, Chaiqiao Street, Beilun District, Ningbo, China
| Ningbo Semiconductor International Corporation (NSI), No. 331-335 Anju Road, Xiaogang Street, Beilun District, Ningbo, Zhejiang, China; and 1MC07, Jiuzhou Center, No. 95, Lane 85, Cailun Road, Pudong New Area, Shanghai, China | For all items subject to the EAR (See § 744.11 of the EAR) | See §§ 744.11 and 744.23(d) of the EAR | 85 FR 83420, 12/22/20. 89 FR [INSERT FR PAGE NUMBER] December 5, 2024.
| Northern Integrated Circuit Technology Innovation Center (Beijing) Co., Ltd., a.k.a., the following five aliases: —Semiconductor Technology Innovation Center (Beijing) Corp.; —STIC; —STIC BJ; —Northern Integrated Circuit Innovation Center; and —STIC Northern Integrated Circuit Technology Innovation Center (Beijing) Co., Ltd. | For all items subject to the EAR (See §§ 734.4(a)(9), 734.9(e)(3), and 744.11 of the EAR) ⁵ | Presumption of denial | 89 FR [INSERT FR PAGE NUMBER] December 5, 2024.
| First Floor, Building 9, No. 18 Wenchang Avenue, Beijing Economic and Technological Development Zone, China; and 34M3 plot of land in the core area of Beijing Economic and Technological Development Zone, Beijing, China
| * * * * * *
| Oriental Crystal Microelectronics Technology (Qingdao) Co., Ltd., a.k.a., the following one alias: —Dongfang Jingyuanwei Electronic Science & Technology (Qingdao) Co., Ltd. | For all items subject to the EAR (See § 744.11 of the EAR) | Presumption of denial | 89 FR [INSERT FR PAGE NUMBER] December 5, 2024.
| No. 9 Chengye Road, Room 306, 3rd Floor, Office Building, West Coast Comprehensive Bonded Zone, Qingdao, China and Room 306, Floor 3, No. 9 Chengye Road, Xihaian Integrated Free Trade Zone, Qingdaopian District, China Pilot Free Trade Zone, Qingdao, Shandong, 266000, China
| Oriental Crystal Microelectronics Technology (Shanghai) Co., Ltd., a.k.a., the following one alias: —Dongfang Jingyuanwei Electronic Science and Technology (Shanghai) Co., Ltd. | For all items subject to the EAR (See § 744.11 of the EAR) | Presumption of denial | 89 FR [INSERT FR PAGE NUMBER] December 5, 2024.
| No. 888, Huanhu West 2nd Road, Building C, Lingang New Area, Shanghai, China and Floor C, No. 888 Huanhu W 2nd Road, Lingang Xinpian District, China Pilot Free Trade Zone, Shanghai, China
| * * * * * *
| Piotech., a.k.a., the following two aliases: —Tuojing Technology; and —Shenyang Tuojing Technology Co., Ltd. | For all items subject to the EAR (See § 744.11 of the EAR) | Presumption of denial | 89 FR [INSERT FR PAGE NUMBER] December 5, 2024.
| No. 900, Shuijia, Hunnan District, Shenyang, China; and No. 1 Xinyuan Street, Shenyang, China; and A072, Floor 3, Building 3, International Enterprise Center Phase 3, No. 1 Guanggu Avenue, Wuhan, China; and Room 217, 2nd Floor, Building 6, No. 16 Hongda North Road, Beijing, China; and Room 403, Floor 4, Building 1, No. 501 Xuri Road, Lingang New Area, Shanghai, China
| Piotech (Beijing) Co., Ltd., a.k.a., the following one alias: —Tuojing (Beijing) Co., Ltd. | For all items subject to the EAR (See § 744.11 of the EAR) | Presumption of denial | 89 FR [INSERT FR PAGE NUMBER] December 5, 2024.
| Room 217, Building 6, No. 16 Hongda North Road, Beijing, China
| Piotech (Shanghai) Co., Ltd., a.k.a., the following one alias: —Tuojing (Shanghai) Co., Ltd. | For all items subject to the EAR (See § 744.11 of the EAR) | Presumption of denial | 89 FR [INSERT FR PAGE NUMBER] December 5, 2024.
| Room 304, Building 10, No. 1211 Hongyin Road, Lingang New Area, Shanghai, China
| Piotech Chuangyi (Shenyang) Semiconductor Equipment Co., Ltd., a.k.a., the following one alias: —Tuojing Chuangyi (Shenyang) Semiconductor Equipment Co., Ltd. | For all items subject to the EAR (See § 744.11 of the EAR) | Presumption of denial | 89 FR [INSERT FR PAGE NUMBER] December 5, 2024.
| Building 2 and Building 3, No. 900, Shuijia, Hunnan District, Shenyang, China
| Piotech Jianke (Haining) Semiconductor Equipment Co., Ltd., a.k.a., the following three aliases: —Tuojing Jianke (Haining) Semiconductor Equipment Co., Ltd.; —Tuojing Keyscience (Haining) Semiconductor Equipment Co., Ltd.; and —Piotech Keyscience (Haining) Semiconductor Equipment Co., Ltd. | For all items subject to the EAR (See § 744.11 of the EAR) | Presumption of denial | 89 FR [INSERT FR PAGE NUMBER] December 5, 2024.
| Building 3, No. 8 Xinzhong Road, Haining Economic Development Zone, Jiaxing, China
| * * * * * *
| PXW Semiconductor Manufactory Co., Ltd., a.k.a., the following seven aliases: —Peng Chip; —Shenzhen Peng Xin Wei IC Manufacturing; —Shenzhen Pengxin Micro Integrated Circuit Manufacturing Co., Ltd.; —PengXinWei; —PXW; —PXWSemi; and —Pengxin Micro. | For all items subject to the EAR (See §§ 734.4(a)(9), 734.9(e)(3), and 744.11 of the EAR) ⁵ | Presumption of denial | 87 FR 77508, 12/19/2022. 89 FR [INSERT FR PAGE NUMBER] December 5, 2024.
| Room 727, Shanxia Building, No. 160, Xinxia Avenue, Shanxia Community, Pinghu Street, Longgang District, Shenzhen, 518111, China; and Building D, Zhongke Valley Industrial Park, Zhonghuan Avenue, Shanxia Community, Pinghu Street, Longgang District, Shenzhen, China
| * * * * * *
| Qingxin Technology Co., Ltd., a.k.a. the following two aliases: —Clean Chip; and —Clean Chip HK. | For all items subject to the EAR (See § 744.11 of the EAR) | Presumption of denial | 89 FR [INSERT FR PAGE NUMBER] December 5, 2024.
| 15th Floor, Wan Zhaofeng Centre, 133 Hoi Bun Road, Kwun Tong, Kowloon, Hong Kong
| Quanjiao Nanda Optoelectronic Materials Ltd. a.k.a., the following one alias: —Quanjiao Nata. | For all items subject to the EAR (See § 744.11 of the EAR) | Presumption of denial | 89 FR [INSERT FR PAGE NUMBER] December 5, 2024.
| No. 686-688, Xincheng Avenue, Shitan Industrial Park, Shizi Town, Quanjiao County, Chuzhou, China
| * * * * * *
| Raintree Scientific Instruments (Shanghai) Corporation, a.k.a., the following two aliases: —RSIC Scientific Instruments (Shanghai) Co., Ltd.; and —Ruili Scientific Instruments (Shanghai) Co., Ltd. | For all items subject to the EAR (See § 744.11 of the EAR) | Presumption of denial | 89 FR [INSERT FR PAGE NUMBER] December 5, 2024.
| Building 6, Zhangjiang Pioneer Park, No. 68 Huatuo Road, Pudong New Area, Shanghai, China; and First Floor, Building 2, Chenghe Innovation Research Center, No. 48 Gubo Road, Pudong New District, Shanghai, China; and Building A8 No. 38 Dongsheng Road, Shanghai Xinfa Chuangyun Industrial Park (Northeast Gate 2), Pudong New Area, Shanghai, China; and No. 777, Jianshe West Road, Binhu District, Jiangsu Zhuosheng Microelectronics Co., Ltd., Binhu District, Wuxi, China
| * * * * * *
| Ruili Microelectronics Equipment (Shanghai) Co., Ltd., a.k.a, the following two aliases: —Raintree Microelectronics; and —RSIC Microelectronics. | For all items subject to the EAR (See § 744.11 of the EAR) | Presumption of denial | 89 FR [INSERT FR PAGE NUMBER] December 5, 2024.
| B1, 2nd Floor, No. 88 Taigu Road, Shanghai, China; and Kailong Technology Building, Lane 3166, Longdong Avenue, Pudong New District, Shanghai, China
| * * * * * *
| Semiconductor Manufacturing International (Beijing) Corporation, a.k.a., the following one alias: —SMIC Beijing. | For all items subject to the EAR (See §§ 734.4(a)(9), 734.9(e)(3), and 744.11 of the EAR) ⁵ | Presumption of denial | 85 FR 83420, 12/22/20. 89 FR [INSERT FR PAGE NUMBER] December 5, 2024.
| No. 18 Wen Chang Road, Beijing Economic-Technological Development Area, Beijing 100176
| Semiconductor Manufacturing International Corporation (SMIC), a.k.a., the following three aliases: —Semiconductor Manufacturing International (Shanghai) Corporation; —SMIC Shanghai; and —Semiconductor Mfg International Corp. | For all items subject to the EAR (See §§ 734.4(a)(9), 734.9(e)(3), and 744.11 of the EAR) ⁵ | Presumption of denial for all items to include items described in ECCN 3B001.a.4, .c, .d, f.1.b.2, .k to .p; 3B002.c, 3B993, or 3B994. Case-by-case for items designed for production of 200mm wafers destined to a 200mm wafer production facility | 85 FR 83420, 12/22/20. 89 FR [INSERT FR PAGE NUMBER] December 5, 2024.
| No. 18 Zhang Jiang Road, Pudong New Area, Shanghai 201203, China
| Semiconductor Manufacturing International (Shenzhen) Corporation, a.k.a., the following one alias: —SMIC Shenzhen. | For all items subject to the EAR (See § 744.11 of the EAR) | See §§ 744.11 and 744.23(d) of the EAR | 85 FR 83420, 12/22/20. 89 FR [INSERT FR PAGE NUMBER] December 5, 2024.
| No. 18 Gaoxin Road, Export Processing Zone, Pingshan New Area, Shenzhen, 518118, China; and 1st Lanzhu Avenue, Pingshan Town, Longgang District, Shenzhen, Guangdong, 518118, China; and Qier Road, Export Processing Zone, Pingshan New Area, Shenzhen, China
| Semiconductor Manufacturing International (Tianjin) Corporation, a.k.a., the following one alias: —SMIC Tianjin. | For all items subject to the EAR (See § 744.11 of the EAR) | See §§ 744.11 and 744.23(d) of the EAR | 85 FR 83420, 12/22/20. 89 FR [INSERT FR PAGE NUMBER] December 5, 2024.
| No. 19 Xing Hua Avenue, Xiqing Economic Development Area, Tianjin, 300385, China
| Semiconductor Manufacturing South China Corporation, a.k.a., the following four aliases: —SMSC; —SMIC Southern Integrated Circuit Manufacturing Co., Ltd.; —SMIC South; and —SMIC Southern. | For all items subject to the EAR (See §§ 734.4(a)(9), 734.9(e)(3), and 744.11 of the EAR) ⁵ | Presumption of denial | 85 FR 83420, 12/22/20. 89 FR [INSERT FR PAGE NUMBER] December 5, 2024.
| 5th Floor, Building 3, No. 18 Zhang Jiang Road, China (Shanghai) Pilot Free Trade Zone, China; and 18 Zhangjiang Road, Pudong New Area, Shanghai, China
| * * * * * *
| Shandong Feiyuan Gas Co., Ltd., a.k.a., the following one alias: —Feiyuan Gas. | For all items subject to the EAR (See § 744.11 of the EAR) | Presumption of denial | 89 FR [INSERT FR PAGE NUMBER] December 5, 2024.
| No. 5, Road 4, Gaoqing Chemical Industry Park, Gaocheng Town, Gaoqing County, Zibo, China
| * * * * * *
| Shanghai AGM Gas Co., Ltd., a.k.a., the following one alias: —AGM Gas. | For all items subject to the EAR (See § 744.11 of the EAR) | Presumption of denial | 89 FR [INSERT FR PAGE NUMBER] December 5, 2024.
| Room 220, 2F, No. 1799-6, Wuzhong Road, Minhang District, Shanghai, China
| * * * * * *
| Shanghai Aipusi Precision Equipment Co., Ltd., Room 402, Building 1, No. 170 Zihai Road, Minhang District, Shanghai, China | For all items subject to the EAR (See § 744.11 of the EAR) | Presumption of denial | 89 FR [INSERT FR PAGE NUMBER] December 5, 2024.
| * * * * * *
| Shanghai Feiai Technology Co., Ltd., Room 204A, Building 5, No. 600, Ningqiao Road, Shanghai, China | For all items subject to the EAR (See § 744.11 of the EAR) | Presumption of denial | 89 FR [INSERT FR PAGE NUMBER] December 5, 2024.
| * * * * * *
| Shanghai Huada Jiutian Information Technology Co., Ltd., a.k.a., the following two aliases: —Shanghai Huada; and —Shanghai Empyrean. | For all items subject to the EAR (See § 744.11 of the EAR) | Presumption of denial | 89 FR [INSERT FR PAGE NUMBER] December 5, 2024.
| Floor 10, Building C, No. 1867, Zhongke Road, Pudong New Area, Shanghai, China; and Building C, No. 888, Huanhu West 2nd Road, Lingang New Area, China
| * * * * * *
| Shanghai Integrated Circuit Equipment & Materials Industry Innovation Center Co., Ltd., a.k.a., the following five aliases: —CICEM; —ICRD Innovation Center; —National Integrated Circuit Equipment and Materials Industrial Innovation Center; —ICRD Phase II; and —ICRD Phase 2. | For all items subject to the EAR (See §§ 734.4(a)(9), 734.9(e)(3), and 744.11 of the EAR) ⁵ | Presumption of denial | 89 FR [INSERT FR PAGE NUMBER] December 5, 2024.
| No. 497, Loulu Road, Jiading District, Shanghai, China; and No. 497, Gauss Road, Shanghai, China; and No. 497, Gaosi Road, Shanghai, China
| Shanghai Integrated Circuit Research and Development Center, a.k.a., the following two aliases: —Shanghai IC R&D Center; and —ICRD. | For all items subject to the EAR (See §§ 734.4(a)(9), 734.9(e)(3), and 744.11 of the EAR) ⁵ | Presumption of denial | 87 FR 77508, 12/19/2022. 89 FR [INSERT FR PAGE NUMBER] December 5, 2024.
| No. 497, Gaosi Road, Zhangjiang Hi-Tech Park, Pudong New Area, Shanghai, China; and No. 3000, Longdong Avenue, Pilot Free Trade Zone, Shanghai, China
| * * * * * *
| Shanghai Jingce Semiconductor Technology Co., Ltd., a.k.a., the following three aliases: —Shanghai Precision Measurement; —Shanghai Jingce; and —PMISH. | For all items subject to the EAR (See § 744.11 of the EAR) | Presumption of denial | 89 FR [INSERT FR PAGE NUMBER] December 5, 2024.
| No. 2875, Huqingping Highway, Qingpu District, Shanghai, China; and Floor 1 and 3, Building 1, No. 269 and 299, Shuangbang Road, Xujing Town, Qingpu District, Shanghai, China
| Shanghai Jingzhuo Information Technology Co., Ltd., 12th Floor, Building B, No. 1-72, Lane 2855, Huqingping Highway, Zhaoxiang Town, Qingpu District, Shanghai, China | For all items subject to the EAR (See § 744.11 of the EAR) | Presumption of denial | 89 FR [INSERT FR PAGE NUMBER] December 5, 2024.
| Shanghai Kaishitong Semiconductor Co., Ltd., a.k.a., the following two aliases: —Kaishitong Semiconductor; and —Kingstone Semiconductor.
| Unit 1, Building 7, No. 200 Newton Road, China (Shanghai) Pilot Free Trade Zone, Shanghai, China; and Unit 1, Building 7, 200 Niudun Road, Shanghai, China; and 211 Qinqiao Road, Shanghai, China | For all items subject to the EAR (See § 744.11 of the EAR) | Presumption of denial | 89 FR [INSERT FR PAGE NUMBER] December 5, 2024.
| Shanghai Lingang Kaishitong Semiconductor Co., Ltd., a.k.a., the following two aliases: —Lingang Kaishitong Semiconductor; and —Lingang Kingstone Semiconductor. | For all items subject to the EAR (See § 744.11 of the EAR) | Presumption of denial | 89 FR [INSERT FR PAGE NUMBER] December 5, 2024.
| Area A, Building 1, No. 88 Wansong Road, Lingang New Area, Shanghai, China; and No. 750, Zhubai Road, Nanhui New Town, Pudong New Area, Shanghai, China
| Shanghai Lizhi Technology Co., Ltd., Room 0248, 2nd Floor, Ji Building, No. 555 Dongchuan Road, Minhang District, Shanghai, China | For all items subject to the EAR (See § 744.11 of the EAR) | Presumption of denial | 89 FR [INSERT FR PAGE NUMBER] December 5, 2024.
| Shanghai Modern Advanced Ultra-Precision Manufacturing Center Co., Ltd., a.k.a., the following three aliases: —Ultra-Precision Manufacturing Center; —UPEC; and —SHUPEC.
| No. 396, Minfeng Road, Pudong New District, Shanghai, China and Building 63 East, 100 Handan Road, Shanghai, China | For all items subject to the EAR (See § 744.11 of the EAR) | Presumption of denial | 89 FR [INSERT FR PAGE NUMBER] December 5, 2024.
| * * * * * *
| Shanghai Nanpre Mechanics Co., Ltd., a.k.a., the following four aliases: —Micro-Yuan Qimi; —Shanghai Weigao; —Shanghai Microhigh Precision Mechanical Engineering Co., Ltd.; and —Shanghai Micro-High Precision Machinery. | For all items subject to the EAR (See § 744.11 of the EAR) | Presumption of denial | 89 FR [INSERT FR PAGE NUMBER] December 5, 2024.
| No. 1525, Zhangdong Road, Shanghai, China
| Shanghai Naura Microelectronics Equipment Co., Ltd., a.k.a. the following two aliases: —Shanghai Naura; and —Shanghai Naura Microelectronics. | For all items subject to the EAR (See § 744.11 of the EAR) | Presumption of denial | 89 FR [INSERT FR PAGE NUMBER] December 5, 2024.
| Building C, No. 888, Huanhu West 2nd Road, Lingang New Area, Shanghai, China
| * * * * * *
| Shanghai Siwave Technology Co., Ltd., a.k.a. the following six aliases: —Shanghai Xinwu Technology Co., Ltd.; —Xinwu Technology; —SIWAVE; —SIWAVE Technology; —SIWAVE, INC.; and —Si-Wave. | For all items subject to the EAR (See § 744.11 of the EAR) | Presumption of denial | 89 FR [INSERT FR PAGE NUMBER] December 5, 2024.
| No. 333 Huangqing Road, Jiading District, Shanghai, China
| Shanghai Skyverse Semiconductor Technology Co., Ltd., a.k.a., the following one alias: —Shanghai Nanolighting Semiconductor Technology Co., Ltd., Room 303, Building 13, No. 1211 Hongyin Road, Lingang New Area, Shanghai, China. | For all items subject to the EAR (See § 744.11 of the EAR) | Presumption of denial | 89 FR [INSERT FR PAGE NUMBER] December 5, 2024.
| * * * * * *
| Shanghai Xinsheng Jingrui Semiconductor Technology Co., Ltd., 2nd Floor, Building 1, No. 1000, Yunshui Road, Lingang New Area, Shanghai, China | For all items subject to the EAR. (See § 744.11 of the EAR) | Presumption of denial | 89 FR [INSERT FR PAGE NUMBER] December 5, 2024.
| Shanghai Xinsheng Jingtou Semiconductor Technology Co., Ltd., Floor 4, Building 6, No. 1000, Yunshui Road, Lingang New Area, Shanghai, China | For all items subject to the EAR (See § 744.11 of the EAR) | Presumption of denial | 89 FR [INSERT FR PAGE NUMBER] December 5, 2024.
| Shanghai Xinsheng Jinko Semiconductor Technology Co., Ltd., Area B, 4th Floor, Building 4, No. 1000, Yunshui Road, Lingang New Area, Shanghai, China | For all items subject to the EAR (See § 744.11 of the EAR) | Presumption of denial | 89 FR [INSERT FR PAGE NUMBER] December 5, 2024.
| Shanghai Xinsheng Semiconductor Technology Co., Ltd., a.k.a., the following two aliases: —Zingsemi; and —Zing Semiconductor Corporation. | For all items subject to the EAR (See § 744.11 of the EAR) | Presumption of denial | 89 FR [INSERT FR PAGE NUMBER] December 5, 2024.
| Buildings 1-4, 6-19, No. 1000, Yunshui Road, Lingang New Area, Shanghai, China
| Shanghai Yanquan Technology Co., Ltd., Building C, No. 888 Huanhu West 2nd Road, Lingang New Area, Shanghai, China | For all items subject to the EAR (See § 744.11 of the EAR) | Presumption of denial | 89 FR [INSERT FR PAGE NUMBER] December 5, 2024.
| Shanghai Yuliangsheng Technology Co., Ltd., a.k.a., the following one alias: —UEASCEND. | For all items subject to the EAR (See § 744.11 of the EAR) | Presumption of denial | 89 FR [INSERT FR PAGE NUMBER] December 5, 2024.
| Building 1, No. 500 Mindong Road, Pudong New District, Shanghai, China
| Shanghai Yuwei Semiconductor Technology Co., Ltd, a.k.a., the following one alias: —Shanghai Yuweitek. | For all items subject to the EAR (See § 744.11 of the EAR) | Presumption of denial | 89 FR [INSERT FR PAGE NUMBER] December 5, 2024.
| Building 11, No. 899 Zuchong Road, Shanghai, China
| Shanghai Zhichun Alloy Manufacturing Co., Ltd., Room 309, Building 1, No. 170 Zihai Road, Minhang District, Shanghai, China | For all items subject to the EAR (See § 744.11 of the EAR) | Presumption of denial | 89 FR [INSERT FR PAGE NUMBER] December 5, 2024.
| Shanghai Zhichun Electronic Technology Co., Ltd., Room 302, Building 10, No. 1211 Hongyin Road, Lingang New Area, China (Shanghai) Pilot Free Trade Zone, Shanghai, China | For all items subject to the EAR (See § 744.11 of the EAR) | Presumption of denial | 89 FR [INSERT FR PAGE NUMBER] December 5, 2024.
| Shanghai Zhichun Optoelectronic Equipment Co., Ltd., Room D, 2nd Floor, Building 3, No. 880 Ziyue Road, Minhang District, Shanghai, China | For all items subject to the EAR (See § 744.11 of the EAR) | Presumption of denial | 89 FR [INSERT FR PAGE NUMBER] December 5, 2024.
| Shanghai Zhichun Precision Gas Co., Ltd., Room 301, Building 1, No. 170, Zihai Road, Minhang District, Shanghai, China | For all items subject to the EAR (See § 744.11 of the EAR) | Presumption of denial | 89 FR [INSERT FR PAGE NUMBER] December 5, 2024.
| Shanghai Zhichun Precision Manufacturing Co., Ltd. a.k.a. the following one alias: —Nanolink. | For all items subject to the EAR (See § 744.11 of the EAR) | Presumption of denial | 89 FR [INSERT FR PAGE NUMBER] December 5, 2024.
| Room 305, Building 1, No. 170 Zihai Road, Minhang District, Shanghai, China
| Shanghai Zhichun Purification System Technology Co., Ltd., a.k.a. the following five aliases: —Pure Technology; —PNC Process; —PNC Process Systems Co., Ltd.; —PNC Technology Group and —PNC. | For all items subject to the EAR (See § 744.11 of the EAR) | Presumption of denial | 89 FR [INSERT FR PAGE NUMBER] December 5, 2024.
| No. 170 Zihai Road, Minhang District, Shanghai, China
| Shanghai Zhichun Semiconductor Equipment Co., Ltd., Room 304, Building 1, No. 170 Zihai Road, Minhang District, Shanghai, China | For all items subject to the EAR (See § 744.11 of the EAR) | Presumption of denial | 89 FR [INSERT FR PAGE NUMBER] December 5, 2024.
| Shanghai Zhichun System Integration Co., Ltd., a.k.a., the following one alias: —Pure Integration. | For all items subject to the EAR (See § 744.11 of the EAR) | Presumption of denial | 89 FR [INSERT FR PAGE NUMBER] December 5, 2024.
| 3rd and 4th floors, Building 2, No. 170 Zihai Road, Minhang District, Shanghai, China
| Shanghai Zhijia Semiconductor Gas Co., Ltd., No. 912 J, Yecheng Road, Jiading Industrial Zone, Shanghai, China | For all items subject to the EAR (See § 744.11 of the EAR) | Presumption of denial | 89 FR [INSERT FR PAGE NUMBER] December 5, 2024.
| Shanghai Zixi Optical Technology Co., Ltd., Building C, No. 888, Huanhu West 2nd Road, Lingang New Area, China (Shanghai) Pilot Free Trade Zone, Shanghai, China | For all items subject to the EAR (See § 744.11 of the EAR) | Presumption of denial | 89 FR [INSERT FR PAGE NUMBER] December 5, 2024.
| * * * * * *
| Shengmei Semiconductor Equipment (Beijing) Co., Ltd., Room 905, Floor 9, Building 7, No. 15 Ronghua South Road, Beijing, China | For all items subject to the EAR (See § 744.11 of the EAR) | Presumption of denial | 89 FR [INSERT FR PAGE NUMBER] December 5, 2024.
| Shengmei Semiconductor Equipment Wuxi Co., Ltd., Room 6, Lot J1, Wuxi New District Export Processing Zone, Wuxi, China | For all items subject to the EAR (See § 744.11 of the EAR) | Presumption of denial | 89 FR [INSERT FR PAGE NUMBER] December 5, 2024.
| Shengwei Semiconductor Equipment (Shanghai) Co., Ltd., Building C, No. 888, Huanhu West 2nd Road, Nanhui New Town, Lingang New Area, Shanghai, China | For all items subject to the EAR (See § 744.11 of the EAR) | Presumption of denial | 89 FR [INSERT FR PAGE NUMBER] December 5, 2024.
| Shenyang Xinyuan Micro Business Development Co., Ltd., a.k.a., the following two aliases: —Kingsemi Micro Business Development Co., Ltd.; and —Core Source Business Development Co., Ltd. | For all items subject to the EAR (See § 744.11 of the EAR) | Presumption of denial | 89 FR [INSERT FR PAGE NUMBER] December 5, 2024.
| Rooms 201 and 202, Building 1, No. 501 Xuri Road, Lingang New Area, Shanghai, China
| Shenyang Xinyuan Microelectronic Equipment Co., Ltd., a.k.a., the following three aliases: —Kingsemi; —Shenyang Kingsemi Microelectronics Equipment Co., Ltd.; and —Shenyang Core Source. | For all items subject to the EAR (See § 744.11 of the EAR) | Presumption of denial | 89 FR [INSERT FR PAGE NUMBER] December 5, 2024.
| No. 16 Feiyun Road, Hunnan District, Shenyang, China
| * * * * * *
| Shenzhen Guowei Hongbo Technology Co., Ltd., Room 14C, Guoshi Building, No. 1801 Shahe West Road, High-tech Zone Community, Yuehai Street, Nanshan District, Shenzhen, China | For all items subject to the EAR (See § 744.11 of the EAR) | Presumption of denial | 89 FR [INSERT FR PAGE NUMBER] December 5, 2024.
| Shenzhen Guowei Sensing Technology Co., Ltd., a.k.a., the following one alias: —SMIT Sense. | For all items subject to the EAR (See § 744.11 of the EAR) | Presumption of denial | 89 FR [INSERT FR PAGE NUMBER] December 5, 2024.
| Room 22B, Guoshi Building, No. 1801 Shahe West Road, High-tech Zone Community, Yuehai Street, Nanshan District, Shenzhen, China and Floor 23, Building 3, Chongwen Park, Nanshan Intelligent Valley, No. 3370 Liuxian Avenue, Shenzhen, China; and Floor 23, Building 3, Chongwen Park, Nanshan Zhiyuan, No. 3370 Liuxian Avenue, Shenzhen, China
| Shenzhen Guoweichip Technology Co., Ltd., a.k.a., the following five aliases: —SMIT Xintech; —Xintech; —Guoweixin; —GWX; and —GWX Technologies. | For all items subject to the EAR (See § 744.11 of the EAR) | Presumption of denial | 89 FR [INSERT FR PAGE NUMBER] December 5, 2024.
| 15th Floor, Guoshi Building, No. 1801, Shahe West Road, Nanshan District, Shenzhen, China
| Shenzhen Huada Jiutianke Technology Co., Ltd., a.k.a., the following two aliases: —Shenzhen Huada; and —Shenzhen Empyrean. | For all items subject to the EAR (See § 744.11 of the EAR) | Presumption of denial | 89 FR [INSERT FR PAGE NUMBER] December 5, 2024.
| 10th floor, Building E, ShenZhen-Hong Kong International Hi-Tech Park, No. 3 Binglang Rd., Futian District, Shenzhen, China; and Room 1001, Building 5, Northwest Shenjiu Technology Pioneer Park, at the intersection of Taohua Road and Betel Road, Fubao Community, Fubao Street, Futian District, Shenzhen, China
| * * * * * *
| Shenzhen Jingyuan Information Technology Co., Ltd., No. 8 Hongmian Road, Room 401A, Building C, Yingdali Technology Digital Park, Fubao Community, Fubao Street, Futian District, Shenzhen, China and 301F, Suite C, Yingdali Technology Shuma Park, Hongmiandao, Fubao Sub-District, Futian District, Shenzhen, Guangdong, 518015, China | For all items subject to the EAR (See § 744.11 of the EAR) | Presumption of denial | 89 FR [INSERT FR PAGE NUMBER] December 5, 2024.
| * * * * * *
| Shenzhen Naura Microelectronics Equipment Co., Ltd., a.k.a., the following two aliases: —Shenzhen Naura; and —Shenzhen Naura Microelectronics. | For all items subject to the EAR (See § 744.11 of the EAR) | Presumption of denial | 89 FR [INSERT FR PAGE NUMBER] December 5, 2024.
| No. 11, Jinniu West Road, Longtian Street, Pingshan District, Shenzhen, China; and About 40 meters west of Haofang Jingyuan, Yanziling 3rd Road, Pingshan District, Shenzhen, China
| * * * * * *
| Shenzhen Pengxinxu Technology Co., Ltd., a.k.a., the following five aliases: —Peng Xin Xu; —PingXinXu; —PST; —Shenzhen Pensun Technology Co., Ltd.; and —PXX. Floor 54-56, Building C, Digital Innovation Center, No. 328 Mintang Road, Longhua District, Shenzhen City, Guangdong Province, China; and Room 403, Podium Building, Innovation Plaza, No. 2007, Pingshan Avenue, Liulian Community Pingshan Street, Pingshan District, Shenzhen, China; and 3001 Jin Xiu West Road Pingshan District, Shenzhen, China | For all items subject to the EAR (See §§ 734.4(a)(9), 734.9(e)(3), and 744.11 of the EAR) ⁵ | Presumption of denial except case-by-case for items not described in ECCN 3B001.a.4, .c, .d, f.1.b.2, .k to .p; 3B002.c, 3B993, or 3B994 | 89 FR [INSERT FR PAGE NUMBER] December 5, 2024.
| Shenzhen Qianhai Skyverse Semiconductor Technology Co., Ltd., a.k.a., the following one alias: —Shenzhen Qianhai Nanolighting Semiconductor Technology Co., Ltd. | For all items subject to the EAR (See § 744.11 of the EAR) | Presumption of denial | 89 FR [INSERT FR PAGE NUMBER] December 5, 2024.
| Room 201, Building A, No. 1 Qianwan 1st Road, Qianhai Shenzhen-Hong Kong Cooperation Zone, Shenzhen, China
| * * * * * *
| Shenzhen SiCarrier Technologies Co., Ltd., a.k.a., the following six aliases: —Shenzhen Xinkailai Technology Co., Ltd.; —Shenzhen Xinkailai; —Xinkailai; —SiCarrier; —Huawei Starlight Engineering Department; and —Huawei Starlight Department. | For all items subject to the EAR (See § 744.11 of the EAR) | Presumption of denial | 89 FR [INSERT FR PAGE NUMBER] December 5, 2024.
| Zhongke Industrial Park, Zhonghuan Avenue, Pinghu Street, Longgang District, Shenzhen, China; and No. 91 Xuri East Road, Shanxia Community, Pinghu Street, Longgang District, Shenzhen, China; and Building 6, Zhongke Valley, Longgang District, Shenzhen, China; and No. 368 Tianjiao Road, Chengdu High-Tech Zone, China; and No. 16, Pingle Street, Changhe Street, Binjiang District, Hangzhou City, China; and Building A, Xi'an Software Park, No. 68, Keji 2nd Road, High-Tech Zone, Xi'an City, Shaanxi Province, China; and Building B4, Phase 1, Longshan Innovation Park, Wuhan Future Science and Technology City, No. 999 Gaoxin Avenue, Donghu New Technology Development Zone, Wuhan City, Hubei Province, China
| * * * * * *
| Shenzhen Xinkailai Industrial Machinery Co., Ltd., Room 1301, Building 6, Zhongkegu Industrial Park, Zhonghuan Avenue, Shanxia Community, Pinghu Street, Shenzhen, China | For all items subject to the EAR (See § 744.11 of the EAR) | Presumption of denial | 89 FR [INSERT FR PAGE NUMBER] December 5, 2024.
| * * * * * *
| Shenzhen Zhangge Instrument Co., Ltd., a.k.a., the following three aliases: —Shenzhen Zhangge; —Zhangge; and —Shenzhenshi Zhangge Yiqi Youxian Gongsi. | For all items subject to the EAR (See § 744.11 of the EAR) | Presumption of denial | 89 FR [INSERT FR PAGE NUMBER] December 5, 2024.
| Room 135, Longguang Jiuyu Mansion, No. 115 Guanlan Avenue, Xinhe Community, Fucheng Street, Longhua District, Shenzhen, China
| * * * * * *
| Si'En Qingdao Co. Ltd., a.k.a., the following five aliases: —Si'EN; —SiEn (Qingdao) Semiconductor Corporation Co.; —SiEn (Qingdao) Integrated Circuits Co., Ltd.; —SiEn; and —XinEn. | For all items subject to the EAR (See §§ 734.4(a)(9), 734.9(e)(3), and 744.11 of the EAR) ⁵ | Presumption of denial | 89 FR [INSERT FR PAGE NUMBER] December 5, 2024.
| Building M, No. 1088, Shanwanghe Road, West Coast New District, Qingdao, China; and Room 401, German Enterprise South Zone, No. 19 Taibaishan Road, Huangdao District, Qingdao, China
| * * * * * *
| SJ Semiconductor, a.k.a., the following two aliases: —SJ Semiconductor (Jiangyin) Corp.; and —SJ Jiangyin. | For all items subject to the EAR (See § 744.11 of the EAR) | See §§ 744.11 and 744.23(d) of the EAR | 85 FR 83420, 12/22/20. 89 FR [INSERT FR PAGE NUMBER] December 5, 2024.
| 6 Dongsheng West Road, Building A8-4, Jiangyin City, Jiangsu Province, 214437, China
| * * * * * *
| Skyverse, a.k.a., the following two aliases: —Shenzhen Nanolighting Technology Co., Ltd; and —Nanolighting Lab. | For all items subject to the EAR (See § 744.11 of the EAR) | Presumption of denial | 89 FR [INSERT FR PAGE NUMBER] December 5, 2024.
| Room 101, 201, and 301, No. 2 Dalang Street, Tongsheng Community, Shanghenglang Fourth Industrial Zone, Shenzhen, China; and Rooms 1401 through 1404, Floor 14, Building 7, No. 19 Beiyuan East Road, Chaoyang District, Beijing, China; and Room 102-B3, Building 8B, Shahu Science and Technology Park, No. 183 Tinglan Lane, Suzhou, China; and Building 2, Workshop Area, No. 1301-18, Yinxing Technology Park, Longhua District, Shenzhen, China
| Skyverse Limited, a.k.a., the following one alias: —Hong Kong Zhongke Feice. | For all items subject to the EAR (See § 744.11 of the EAR) | Presumption of denial | 89 FR [INSERT FR PAGE NUMBER] December 5, 2024.
| 1008, Prosperity Millennia Plaza, 663 King's Rd, Tsat Tsz Mui, Hong Kong
| * * * * * *
| SMIC Advanced Technology R&D (Shanghai) Corporation, a.k.a., the following seven aliases: —SMIC New Technology Research and Development (Shanghai) Corporation; —SMIC New Technology R&D (Shanghai) Corporation; —SMIC Advanced Technology Research & Development (Shanghai) Corporation; —Zhongxin Guoji Jicheng Dianlu Xinjishu Yanfa (Shanghai) Youxian Gongsi; —SMIC Advanced Technology; —SMIC New Technology; and —SMIC New Technology Research & Development. | For all items subject to the EAR (See §§ 734.4(a)(9), 734.9(e)(3), and 744.11 of the EAR) ⁵ | Presumption of denial | 89 FR [INSERT FR PAGE NUMBER] December 5, 2024.
| 18 Zhangjiang Road, Pudong New Area, Shanghai, China; and 6th Floor, Building 3, No. 18, Zhangjiang Road, China (Shanghai) Pilot Free Trade Zone Shanghai, Shanghai, 201203 China
| SMIC Holdings Limited, Building 1, No. 1059 Dangui Road, China (Shanghai) Pilot Free Trade Zone, Shanghai, China | For all items subject to the EAR (See § 744.11 of the EAR) | See §§ 744.11 and 744.23(d) of the EAR | 85 FR 83420, 12/22/20. 89 FR [INSERT FR PAGE NUMBER] December 5, 2024.
| SMIC Hong Kong International Company Limited, a.k.a., the following one alias: —SMIC Hong Kong. Suite 3003, 30th Floor, No. 9 Queen's Road, Central, Hong Kong | For all items subject to the EAR (See § 744.11 of the EAR) | See §§ 744.11 and 744.23(d) of the EAR | 85 FR 83420, 12/22/20. 85 FR 83769, 12/23/20. 86 FR 12531, 3/4/21. 89 FR [INSERT FR PAGE NUMBER] December 5, 2024.
| SMIC Northern Integrated Circuit Manufacturing (Beijing) Co., Ltd., a.k.a., the following two aliases: —Semiconductor Manufacturing North China (Beijing) Corporation; and —SMIC North. | For all items subject to the EAR (See §§ 734.4(a)(9), 734.9(e)(3), and 744.11 of the EAR) ⁵ | Presumption of denial | 85 FR 83420, 12/22/20. 89 FR [INSERT FR PAGE NUMBER] December 5, 2024.
| Building 9, No. 18 Wenchang Avenue, Beijing Economic and Technological Development Zone, Beijing, China
| SMIC Semiconductor Manufacturing (Shanghai) Co., Ltd., a.k.a., the following one alias: —Suzhou Design Center. | For all items subject to the EAR (See § 744.11 of the EAR) | See §§ 744.11 and 744.23(d) of the EAR | 85 FR 83420, 12/22/20. 89 FR [INSERT FR PAGE NUMBER] December 5, 2024.
| Room 602, Building 1, No.158 Suya Road, Suzhou Industrial Park, China
| * * * * * *
| Suzhou Nanda Optoelectronic Materials Co., Ltd., a.k.a., the following two aliases: —Suzhou Nata; and —Suzhou Nanda. | For all items subject to the EAR (See § 744.11 of the EAR) | Presumption of denial | 89 FR [INSERT FR PAGE NUMBER] December 5, 2024.
| No. 40, Pingsheng Road, Suzhou Industrial Park, Suzhou, China; and No. 67, Pingsheng Road, Suzhou Industrial Park, Suzhou, China
| * * * * * *
| SwaySure Technology Co., Ltd., a.k.a., the following four aliases: —SwaySure; —Shenzhen ShengWeixu Technology Company; —Sheng Weixu; and —SWX. Xiangshan Science and Technology Park, No. 1 Guiping Road, Fucheng Street, Longua District, Shenzhen City, Guangdong Province, China; and Floor 54-56, Building C, Digital Innovation Center, No. 328 Mintang Road, Longhua District, Shenzhen City, Guangdong Province, China; and Room 104, Building B, No. 1 Xinyuan 3rd Lane, Fuchengao Community, Pinghu Street, Longgang District, Shenzhen, China | For all items subject to the EAR (See §§ 734.4(a)(9), 734.9(e)(3), and 744.11 of the EAR) ⁵ | Presumption of denial except case-by-case for items not described in ECCN 3B001.a.4, .c, .d, f.1.b.2, .k to .p; 3B002.c, 3B993, or 3B994 | 89 FR [INSERT FR PAGE NUMBER] December 5, 2024.
| * * * * * *
| Taiyuan Jinke Semiconductor Technology Co., Ltd., Area A, 4th Floor, No. 5 Fengze Road, Taiyuan, China | For all items subject to the EAR (See § 744.11 of the EAR) | Presumption of denial | 89 FR [INSERT FR PAGE NUMBER] December 5, 2024.
| * * * * * *
| Ulanqab Nanda Microelectronics Materials Co., Ltd., a.k.a., the following four aliases: —Ulanqab Nata; —Ulanqab Nanda; —Ulanqab Nata Microelectronics; and —Ulanqab Nanda Microelectronics. | For all items subject to the EAR (See § 744.11 of the EAR) | Presumption of denial | 89 FR [INSERT FR PAGE NUMBER] December 5, 2024.
| Room 101, Building 5, Zone B, Business, Science, Technology and Culture Center, Jining District, Ulanqab, China
| * * * * * *
| Wingtech Technology Co., Ltd., a.k.a., the following one alias: —WINGTECH. | For all items subject to the EAR (See § 744.11 of the EAR) | Presumption of denial | 89 FR [INSERT FR PAGE NUMBER] December 5, 2024.
| No. 18 East Xincheng Road, Wangren Town, Huangshi Development Zone, Tieshan District, Hubei Province, China; and 4th through 6th floors of Bldg. 4 of Juxin Yuan, No. 188 Pingfu Rd. Xuhui District, Shanghai, China; and Zhongqing Mansion, No. 42 Gaoxin 6th Rd. High Tech Zone, Xi'an, China; and No. 777 Yazhong Rd. Jiaxing, Zhejiang, China; and 11 Changjiang South Rd. Xinwu Dist., Wuxi, Jiangsu, China; and 7 Shenzhou Rd., Science City Guangzhou High Tech Industrial Development Zone, Guangzhou, China; and 5097 Luosha Road, Yinfeng Area, Shenzhen, China; and No. 1003, Yanhe North Road, Jingji Oriental Duhui Area, Shenzhen, China
| Wise Road Capital a.k.a., the following three aliases: —Beijing Wise Road Management Co., Ltd.; —Beijing Zhilu Asset Management Co., Ltd.; and —Zhilu Asset. | For all items subject to the EAR (See § 744.11 of the EAR) | Presumption of denial | 89 FR [INSERT FR PAGE NUMBER] December 5, 2024.
| 2/F, Beijing International Club Office Tower, No. 21 Jian Guo Men Wai Street, Chaoyang District, Beijing, China and Room 1810, Bund Center, 222 Yan An East, Huangpu District, Shanghai, China and Room 901-3, 9th Floor, Building 57, No. 2 Jingyuan North Street, Beijing Economic and Technological Development Zone, Beijing, China and Room 8-50, Building 6, Ronghui Garden, Linkong Economic Core Zone, Shunyi District, Beijing, China
| * * * * * *
| Wuhan Naura Microelectronics Equipment Co., Ltd., a.k.a. the following two aliases: —Wuhan Naura; and —Wuhan Naura Microelectronics. | For all items subject to the EAR (See § 744.11 of the EAR) | Presumption of denial | 89 FR [INSERT FR PAGE NUMBER] December 5, 2024.
| Fifth Floor, Hubei Marine Engineering Equipment Research Institute, Taolin Road, Jiangxia District, Wuhan, China
| * * * * * *
| Wuhan Skyverse Semiconductor Technology Co., Ltd., a.k.a., the following one alias: —Wuhan Nanolighting Semiconductor Technology Co., Ltd. | For all items subject to the EAR (See § 744.11 of the EAR) | Presumption of denial | 89 FR [INSERT FR PAGE NUMBER] December 5, 2024.
| Room 201, 2nd Floor, Building C2, Phase I, Longshan Innovation Park, Wuhan Future Science and Technology City, No. 999 Gaoxin Avenue, East Lake New Technology Development Zone, Wuhan, China
| Wuhan Xinxin Semiconductor Manufacturing Company Limited, a.k.a., the following one alias: —XMC. | For all items subject to the EAR (See §§ 734.4(a)(9), 734.9(e)(3), and 744.11 of the EAR) ⁵ | See §§ 740.26, 744.11, and 744.23(d) of the EAR | 89 FR [INSERT FR PAGE NUMBER] December 5, 2024.
| No. 18 Gaoxin Four Road, East Lake High-Tech Development Zone, Wuhan, China; and 3rd Floor, Area E, Shengyin Building, Shengxia Road, Pudong New District, Shanghai, China; and Room B504, Building B, International Science and Technology Park Phase II, No. 1355 Jinjihu Avenue, Suzhou Industrial Park, Suzhou, China; and T2 1909, Fangda City, No. 2 Longzhu 4th Road, Nanshan District, Shenzhen, China
| Wuhan Yiguang Technology Co., Ltd., a.k.a., the following one alias: —Wuhan eoptics Technology. | For all items subject to the EAR (See § 744.11 of the EAR) | Presumption of denial | 89 FR [INSERT FR PAGE NUMBER] December 5, 2024.
| Building 6, No. 10, Financial Gang 4th Road, East Lake New Technology Development Zone, Wuhan, China
| Wuxi Kaishitong Technology Co., Ltd., a.k.a., the following one alias: —Wuxi Kingstone Technology. | For all items subject to the EAR (See § 744.11 of the EAR) | Presumption of denial | 89 FR [INSERT FR PAGE NUMBER] December 5, 2024.
| Room 201, plot on the west side of the new 312 National Highway, Shuofang, Wuxi New District, on the north side of Xijin Road (in the Airport Industrial Park), Wuxi, China; and Room 201, Building 14, Xutian Technology Park, No. 53 Xiuxi Road, Binhu District, Wuxi, China
| * * * * * *
| Wuxi Naura Microelectronics Equipment Co., Ltd., a.k.a., the following two aliases: —Wuxi Naura; and —Wuxi Naura Microelectronics. | For all items subject to the EAR (See § 744.11 of the EAR) | Presumption of denial | 89 FR [INSERT FR PAGE NUMBER] December 5, 2024.
| IC Design Building B1007, 33 Xinda Road, Xinwu District, Wuxi, China
| * * * * * *
| Xiamen Skyverse Technology Co., Ltd., a.k.a., the following one alias: —Xiamen Nanolighting Technology Co., Ltd., Unit 1623, No. 567 Haicang Avenue, Xiamen, China. | For all items subject to the EAR (See § 744.11 of the EAR) | Presumption of denial | 89 FR [INSERT FR PAGE NUMBER] December 5, 2024.
| * * * * * *
| Xi'an Huada Jiutian Technology Co., Ltd., a.k.a., the following two aliases: —Xi'an Huada; and —Xi'an Empyrean. | For all items subject to the EAR (See § 744.11 of the EAR) | Presumption of denial | 89 FR [INSERT FR PAGE NUMBER] December 5, 2024.
| Unit 8F, Floor G1, Xi'an Huanpu International Technology Yuan, No. 211, Tiangu 8th Road, High-tech Zone, Xi'an, China
| * * * * * *
| Xi'an Naura Microelectronics Equipment Co., Ltd., a.k.a., the following two aliases: —Xi'an Naura; and —Xi'an Naura Microelectronics. | For all items subject to the EAR (See § 744.11 of the EAR) | Presumption of denial | 89 FR [INSERT FR PAGE NUMBER] December 5, 2024.
| Floor 4, Building D, National Service Outsourcing Demonstration Base, No. 11 Jinye 1st Road, High-tech Zone, Xi'an, China
| * * * * * *
| Xinlian Rongchuang Integrated Circuit Industry Development (Beijing) Co., Ltd., No. 19, Ronghua Middle Road, Room 312, 3rd Floor, Building B, Beijing Economic and Technological Development Zone, Beijing, China | For all items subject to the EAR (See § 744.11 of the EAR) | Presumption of denial | 89 FR [INSERT FR PAGE NUMBER] December 5, 2024.
| * * * * * *
| Yusheng Micro Semiconductor (Shanghai) Co., Ltd., 1F-A, 2F-A, Building 2, No. 365 Chuanhong Road, Pudong New District, Shanghai, China | For all items subject to the EAR (See § 744.11 of the EAR) | Presumption of denial | 89 FR [INSERT FR PAGE NUMBER AND DATE OF PUBLICATION IN THE FEDERAL REGISTER].
| * * * * * *
| Yuwei Semiconductor Technology Co., Ltd., a.k.a., the following two aliases: —Yuweitek; and —Yuwei Semiconductor. | For all items subject to the EAR (See § 744.11 of the EAR) | Presumption of denial | 89 FR [INSERT FR PAGE NUMBER AND DATE OF PUBLICATION IN THE FEDERAL REGISTER].
| Building 1, No. 469, Huatuo Lane, High-tech Zone, Hefei, China; and Room 295, Building 1, No. 1531, Jincheng East Road, Jiangxi Street, Xinwu District, Wuxi, China; and Room 302-1, Building E1, Saida Testing and Certification Park, No. 5, Xinghua Third Branch Road, Xiqing Economic and Technological Development Zone, Tianjin, China; and Room 404, Qingfeng Rongsheng Venture Capital Building, No. 88-8, Bagua 3rd Road, Shanglin Community, Yuanling Street, Futian District, Shenzhen, China; and Room 309, Building 5, No. 29, Qingxiang South Road, Daxing District, Beijing, China; and Room 202, 2nd Floor and Room 01, Building 10, No. 899 Zuchong Road, Shanghai, China
| * * * * * *
| Zhangjiang Laboratory, a.k.a., the following three aliases: —Zhangjiang Lab; —Zhangjiang National Lab; and —ZJLab. | For all items subject to the EAR (See §§ 734.4(a)(9), 734.9(e)(3), and 744.11 of the EAR) ⁵ | Presumption of denial | 89 FR [INSERT FR PAGE NUMBER] December 5, 2024.
| No. 100, Haike Road, Pudong New Area, Shanghai, China; and No. 99, Haike Road, Pudong New Area, Shanghai, China
| * * * * * *
| Zhejiang Shenqihang Technology Co., Ltd., No. 17, Binhe Road, Qingshan Lake Street, Lin'an District, Hangzhou, China | For all items subject to the EAR (See § 744.11 of the EAR) | Presumption of denial | 89 FR [INSERT FR PAGE NUMBER] December 5, 2024.
| * * * * * *
| Zhejiang Zhichun Precision Manufacturing Co., Ltd., Room 412, Building 1, No. 8, Xinzhong Road, Haining Economic Development Zone (Haichang Street), Haining City, Jiaxing, China | For all items subject to the EAR (See § 744.11 of the EAR) | Presumption of denial | 89 FR [INSERT FR PAGE NUMBER] December 5, 2024.
| Zhiwei Semiconductor (Shanghai) Co., Ltd., a.k.a., the following one alias: —Ultron. | For all items subject to the EAR (See § 744.11 of the EAR) | Presumption of denial | 89 FR [INSERT FR PAGE NUMBER] December 5, 2024.
| Room 306, Building 1, No. 170 Zihai Road, Minhang District, Shanghai. China
| Zhiyi High Purity Electronic Materials (Shanghai) Ltd., a.k.a., the following one alias: —Finetron. | For all items subject to the EAR (See § 744.11 of the EAR) | Presumption of denial | 89 FR [INSERT FR PAGE NUMBER] December 5, 2024.
| Room 306, Building 1, No. 170 Zihai Road, Minhang District, Shanghai. China
| * * * * * *
| Zhuhai Cornerstone Technology Co., Ltd., a.k.a., the following one alias: —Cornerstone Technologies Company. | For all items subject to the EAR (See § 744.11 of the EAR) | Presumption of denial | 89 FR [INSERT FR PAGE NUMBER] December 5, 2024.
| Room 602, Building 1, No. 18, Nangang Middle Road, Zhuhai, China
| Zhuhai Skyverse Technology Co., Ltd., a.k.a., the following one alias: —Zhuhai Nanolighting Technology Co., Ltd. | For all items subject to the EAR (See § 744.11 of the EAR) | Presumption of denial | 89 FR [INSERT FR PAGE NUMBER] December 5, 2024.
| Card No. 03, Room 401, Building 21, No. 1889 Huandao East Road, Hengqin New District, Zhuhai, China
| * * * * * *
| Zibo Keyuanxin Fluorine Trading Ltd., No. 5, Road 4, Gaoqing Chemical Industry Park, Gaocheng Town, Gaoqing County, Zibo, China | For all items subject to the EAR (See § 744.11 of the EAR) | Presumption of denial | 89 FR [INSERT FR PAGE NUMBER] December 5, 2024.
* * * * * * *
JAPAN | * * * * * *
| Kingsemi Japan K.K., a.k.a., the following two aliases: —Kingsemi Kyoto K.K.; and —Kingsemi. | For all items subject to the EAR (See § 744.11 of the EAR) | Presumption of denial | 89 FR [INSERT FR PAGE NUMBER] December 5, 2024.
| 680-1, Omandokorocho, Sagaru, Bukkoji, Karasumadoori, Shimogyo-Ku Daihachi Hase Bldg. 9F-B Kyoto, Kyoto, 600-8413 Japan
* * * * * * *
SINGAPORE | * * * * * *
| Skyverse Pte. Ltd., a.k.a., the following one alias: —Skyverse. | For all items subject to the EAR (See § 744.11 of the EAR) | Presumption of denial | 89 FR [INSERT FR PAGE NUMBER] December 5, 2024.
| #14-08, Keppel Bay Tower, 1 Harbourfront Avenue, 098632, Singapore
| * * * * * *
* * * * * * *
SOUTH KOREA | ACM Research Korea Co., Ltd., 402, Hyundai City Plaza, 2106 Gyeong chung-daero, Bubal-eup, Icheon-si, Gyeonggi-do, South Korea | For all items subject to the EAR (See § 744.11 of the EAR) | Presumption of denial | 89 FR [INSERT FR PAGE NUMBER] December 5, 2024.
| Empyrean Korea, No. 178, 602, Bangyoe-ro, Bundang-gu, Seongnam-si, Gyeonggi-do (Sampyeong-dong), South Korea | For all items subject to the EAR (See § 744.11 of the EAR) | Presumption of denial | 89 FR [INSERT FR PAGE NUMBER] December 5, 2024.
| * * * * * *
* * * * * * *
* * * * * * *
⁵ For this entity, “items subject to the EAR” includes foreign-produced items that are subject to the EAR under § 734.9(e)(3) of the EAR. See § 744.11(a)(2)(v) for related license requirements and license application review policy.

PART 748—APPLICATIONS (CLASSIFICATION, ADVISORY, AND LICENSE) AND DOCUMENTATION

3. The authority citation for part 748 is revised to read as follows:

Authority: 50 U.S.C. 4801-4852; 50 U.S.C. 4601 et seq.; 50 U.S.C. 1701 et seq.; E.O. 13026, 61 FR 58767, 3 CFR, 1996 Comp., p. 228; E.O. 13222, 66 FR 44025, 3 CFR, 2001 Comp., p. 783; Notice of August 13, 2024, 8 FR 66187 (August 15, 2024).

Supplement No. 7 to Part 748—[Amended]

4. Amend Supplement No. 7 to Part 748 by removing the entire entries for “Advanced Micro-Fabrication Equipment, Inc., China”, “CSMC Technologies Corporation”, and “Shanghai Huahong Grace Semiconductor Manufacturing Corporation” in “China (People's Republic of)”.

Matthew S. Borman,
Principal Deputy Assistant Secretary for Strategic Trade and Technology Security.

[FR Doc. 2024-28267 Filed 12-2-24; 8:45 am]

BILLING CODE 3510-33-P